DEPARTMENT OF TRANSPORTATION

Office of the Secretary

[Docket No. DOT-OST-2023-0125]

Notice of Funding Opportunity To Establish Cooperative Agreements With Technical Assistance Providers for the Fiscal Year 2023 Thriving Communities Program

AGENCY: Office of the Secretary of Transportation, U.S. Department of Transportation (DOT).

ACTION: Notice of Funding Opportunity (NOFO), Assistance Listing Number: 20.942.

SUMMARY: The purpose of this notice is to publish DOT's application submission requirements and application review procedures to select national and State, Tribal, or regional capacity builders to provide technical assistance, planning, and capacity building support to communities through cooperative agreements with DOT, as authorized by the Consolidated Appropriations Act, 2023.

DATES: The deadline for application submission is 4:59 p.m. eastern time on November 28, 2023. Proposals or applications received after the above deadlines will not be reviewed or considered. See section E of this NOFO regarding DOT's review process and section G of the NOFO for DOT's contact information.

ADDRESSES: Applications must be submitted through https://www.grants.gov. Opportunity number: DOT-TCP-FY23-01.

FOR FURTHER INFORMATION CONTACT:

Ongoing updates, webinar notices, FAQs: https://www.transportation.gov/thriving-communities.

POC: Monica Guerra, (202) 366-7738, monica.guerra@dot.gov.

Email: ThrivingCommunities@dot.gov.

A Telecommunications Device for the Deaf (TDD) is available (202) 366-3993.

SUPPLEMENTARY INFORMATION:

Summary Overview and Key Information: Thriving Communities Program (TCP)
Issuing Agency | U.S. Department of Transportation, Office of the Secretary (OST).
Program Overview | The Consolidated Appropriations Act, 2023 provided $25 million to the US Department of Transportation (DOT) for a Thriving Communities Program (TCP) to develop and implement technical assistance, planning, and capacity building to help improve and foster thriving communities through transportation improvements. Through TCP, DOT will award cooperative agreements for Capacity Builders to provide technical assistance, planning, and capacity building support that advances transformative infrastructure plans, projects, and processes primarily in communities that have disproportionate rates of pollution and poor air quality, communities experiencing disproportionate human health and environmental effects (as defined by Executive Order No. 12898), areas of persistent poverty as defined in section 6702(a)(1) of title 49, United States Code, or historically disadvantaged communities.
Program Types | Thriving Communities National Capacity Builder Program (TCP-N): Funds TCP-N Capacity Builders through cooperative agreements to provide individualized technical assistance, planning, and capacity building support to 15-20 communities located around the country, selected and assigned by DOT, and organized into a Community of Practice. TCP-N Capacity Builders will work with communities to co-design tailored scopes of work based on the community's individual needs and stage in the transportation planning, design, and development process to be carried out over two years of intensive TCP support. TCP-N Capacity Builders will also facilitate peer learning networks across the communities assigned to their Community of Practice. Evaluation, reporting, resource development, and transition activities will be the Capacity Builders' focus during the third year of the period of performance.
| Thriving Communities Regional Pilot Program (TCP-R): Funds State and local governments and their agencies, Tribal governments, and regional governments or organizations through cooperative agreements to provide support to communities selected by the applicant that are located within their jurisdiction or service area. The focus of this program is to enable State, Tribal, local, and regional governments to support the advancement of transportation opportunities in disadvantaged communities that align with State, Tribal, or regional housing, economic development, public health, climate, and other community development goals. While this program overlaps with the TCP-N Program in scope and purpose, it has a narrower focus on coordination and alignment within a specific geography. TCP-R Capacity Builders will play a coordination and capacity building role rather than providing intensive, tailored technical assistance. TCP-R Capacity Builders will facilitate peer learning across communities in their State, Tribe and/or region to scale program impact and act as a model for other jurisdictions. The first two years of the period of performance will be focused on both individual community support and peer learning, while the third year will focus on evaluation, reporting, resource development, and transition activities.
Eligible Activities | TCP-N Capacity Builder Cooperative Agreements: Deep-dive technical assistance, planning, and capacity building support that could include, but is not limited to, the following set of activities:
| • identifying and responding to funding opportunities that align with projects that implement local community mobility, access, climate and community development goals and regional or statewide plans.
| • activities to support grant writing, project management, and compliance with grant administration requirements.
| • conducting project scoping, planning, and pre-engineering studies, market, and other technical analysis.
| • supplementing local staffing, training, and workforce development capacity.
| • developing systems or structures that improve compliance with Federal grant management, including but not limited to title VI of the Civil Rights Act, the Americans with Disabilities Act, section 504 of the Rehabilitation Act, and procurement requirements.
| • supporting comprehensive community planning activities that better coordinate transportation with other land use, housing, climate, health, and other infrastructure.
| • implementing innovative public engagement strategies, particularly to involve traditionally underrepresented voices in the planning, project identification, and prioritization process.
| • sub-granting to local technical assistance and capacity building partners who bring local expertise and capacity.
| • building organizational capacity to strengthen relationships between key stakeholders that deepen regional engagement and collaboration, position partners for future funding opportunities, and/or support inclusive planning processes.
| • evaluating and establishing emerging transportation and planning technologies, data systems, and software.
| • fostering peer learning and participation within a Community of Practice to advance policies, practices, and projects informed by meaningful public involvement and partnership.
| TCP-R Cooperative Agreements: Support provided by State governments and their agencies, Tribal governments, local governments and their agencies, or regional governments and organizations to advance transformative infrastructure in disadvantaged communities that face barriers to infrastructure advancement and implementation. This may include, but is not limited to:
| • identifying funding opportunities that align with transportation goals and advance mobility access, climate resilience, equitable community development, healthy communities in support of regional or statewide plans.
| • supporting predevelopment planning and scoping of projects that coordinate transportation with other land use, housing, and infrastructure development.
| • building organizational capacity and strengthened relationships between key stakeholders that deepen regional engagement and collaboration, position partners for future funding opportunities, and/or support inclusive planning processes.
| • funding planning and technical assistance activities that reform local land use and zoning policies to align transportation infrastructure investment with equitable community development.
| • establishing pooled resources and/or innovative funding tools that increase community investments in transportation, housing, environment, and health.
| • supporting regional economic and workforce development that promotes local hiring, access to transit, and jobs in high quality industries.
| • activities to support grant writing, project management, and compliance with grant administration requirements.
| • peer-learning, networking, and knowledge sharing on strategies, types of tools, and lessons learned with other communities in the applicant's State or region.
Eligible Applicants | TCP-N Capacity Builders:
| • Non-profit organizations;
| • philanthropic entities; and
| • other technical assistance providers including academic institutions and private sector organizations with a demonstrated capacity to develop and provide technical assistance, planning, and capacity building to a range of communities located across multiple States and regions.
| TCP-R Capacity Builders:
| • State governments and their agencies;
| • Indian Tribes;
| • local governments and their agencies;
| • governmental planning or transportation organizations working at the regional or metropolitan level; or
| • regional planning non-profit organizations.
Funding Amount | For FY 2023, the Department expects to award two different types of cooperative agreements through this NOFO, with up to $22 million total being available for award.
| • TCP-N Capacity Builder cooperative agreements are anticipated to be in the range of $4-5 million each; and
| • TCP-R cooperative agreements are anticipated to be in the range of $1-2 million each.
Cost Share | No cost sharing or matching is required as a condition of eligibility under this competition. DOT will fund up to 100 percent of eligible project costs through a monthly reimbursement invoicing model. Priority consideration will be given to those applicants that can demonstrate leveraging of other funding and resources.
Deadlines | November 28, 2023 at 4:59 p.m. ET via Grants.gov. Opportunity number: DOT-TCP-FY23-01.
Contact Information | Ongoing updates, webinar notices, FAQs: [https://www.transportation.gov/grants/thriving-communities]. Email: ThrivingCommunities@dot.gov. Phone: (202) 366-7738. A Telecommunications Device for the Deaf (TDD) is available (202) 366-3993.

Table of Contents

A. Program Description

B. Federal Award Information

C. Eligibility Information

D. Application and Submission Information

E. Application Review Information

F. Federal Award Administration

G. Federal Awarding Agency Contacts

H. Other Supporting Information

Appendix A. Full Application Checklist

A. Program Description

1. Overview

The U.S. Department of Transportation's (DOT or the Department) Thriving Communities Program (TCP) was established by the Consolidated Appropriations Act of 2022 (Pub. L. 117-103 division L, title I) and received additional funding through the Consolidated Appropriations Act of 2023 (Pub. L. 117-328 division L, title I). The goal of the TCP is to ensure disadvantaged or transportation-insecure communities adversely and/or disproportionately affected by environmental, climate, and human health policy outcomes have the technical tools and organizational capacity to comprehensively plan for and deliver quality infrastructure projects and community development projects that enable their communities and neighborhoods to thrive.

The TCP was created by Congress specifically to facilitate the planning and development of transportation and community revitalization activities supported by DOT under titles 23, 46, and 49, United States Code, that increase mobility, reduce pollution from transportation sources, expand affordable transportation options, facilitate efficient land use, preserve or expand jobs, improve housing conditions, enhance connections to health care, education, and food security, or improve health outcomes. To achieve this, communities, particularly those that are disadvantaged and/or transportation burdened or those that have limited technical capacity or budgets, need greater levels of support to successfully take advantage of the recent historic Federal investments in transportation infrastructure and build capacity to successfully fund these projects in the long-term.

DOT's FY2022-2026 Strategic Plan [https://www.transportation.gov/dot-strategic-plan] and its Equity Action Plan [https://www.transportation.gov/priorities/equity/equity-action-plan] articulate the Department's commitment to equity as a transportation cornerstone. The TCP embodies this commitment with a focus on ensuring that all communities, regardless of their size or current capacity, have the necessary tools to access DOT funding and that equity is infused into decision making and planning, procurement, and hiring processes. TCP is a Justice40 covered program, created to ensure that disadvantaged communities can successfully identify, develop, fund, and deliver infrastructure projects informed by meaningful public involvement that generate multiple economic, climate, health, equity, and other community benefits. Find more information on the Justice40 Initiative and other programs that that can support equity goals on the DOT Justice40 website [https://www.transportation.gov/equity-Justice40].

This Notice of Funding Opportunity (NOFO) continues investment in a national technical assistance program (TCP-N) and provides new opportunities for State-, Tribal-, local-, and regional-level community support through the Thriving Communities Regional Pilot Program (TCP-R) that will drive innovation, advance equity outcomes, and build a national pipeline of community-driven infrastructure projects. In its first year, TCP supported deep-dive technical assistance in 64 communities across the country. For the TCP's second year, DOT seeks to support at least another 45-60 communities through its National program, depending on responses to the Letters of Interest and the size and number of cooperative agreements awarded through this NOFO, and additional communities selected by TCP-R applicants.

For the FY 2023 TCP, there are two distinct programs, each of which will involve a team of Capacity Builders providing assistance to disadvantaged and/or low-capacity communities. The opportunities to provide and receive assistance are summarized below:

| Thriving Communities National (TCP-N) program: National capacity builders | Thriving Communities National (TCP-N) program: Recipient communities | Thriving Communities Regional Pilots (TCP-R) program: TCP-R capacity builders | Thriving Communities Regional Pilots (TCP-R) program: Recipient communities
How to Apply | Submit an application via grants.gov in response to this NOFO | Submit a Letter of Interest via [https://www.transportation.gov/grants/thriving-communities-program-LOI-webform] Find more information in the Call for LOIs [https://www.transportation.gov/grants/thriving-communities/call-for-letters-of-interest-fy23] | Submit an application via grants.gov in response to this NOFO | No application required; communities selected directly by TCP-R Capacity Builder. Identified communities must include Letters of Commitment in TCP-R application.
Purpose | Fund National Capacity Builders to provide direct no-cost planning, technical assistance, and capacity building support to selected TCP communities located across the country for a three-year period of performance | Receive, at no cost, TCP technical assistance, capacity building, and planning support from the DOT-funded National Capacity Builders | Fund State, Tribal, local, and regional entities to provide direct no-cost planning, technical assistance, and capacity building to communities of their choice within their jurisdictions for a three-year period of performance | Receive, at no cost, TCP technical assistance, capacity building, and planning support from the DOT-funded TCP-R Capacity Builders.
Primary Activity | Provide technical assistance, planning, and capacity building support | Receive technical assistance, planning, and capacity building support | Coordinate assistance and support to advance and align infrastructure goals and projects | Receive assistance and support to advance and align infrastructure goals and projects.
Eligible Applicants | • Non-profit organizations. • philanthropic entities; and • other technical assistance providers including academic institutions or private sector organizations with a demonstrated capacity to develop and provide technical assistance, planning, and capacity building to a range of communities located across multiple States and regions. | • States. • Local governments. • Indian Tribes. • United States territories. • metropolitan planning organizations (MPOs). • transit agencies. • other political subdivisions of State or local governments. | • States government and its agencies • Indian Tribes. • Local government and its agencies. • a governmental planning, economic development, or transportation organization working at the regional or metropolitan level, or • a regional, Tribal or Statewide planning non-profit organization. | • Local governments. • Indian Tribes. • United States territories. • transit agencies. • or other political subdivisions of State or local governments.
Partnership Requirements | Applicants are encouraged to partner with other Capacity Builders, which may include other eligible applicants including non-profits, and other technical assistance providers to deepen and broaden technical assistance and capacity building expertise | Applicants are required to identify at least two community partners with whom they will work to advance local goals to be supported through TCP-N assistance. Find more information in the Call for LOIs [https://www.transportation.gov/grants/thriving-communities/call-for-letters-of-interest-fy23] | Applicants are encouraged to partner with other Capacity Builders, which may include other entities including local governments, non-profits, and other technical assistance providers to deepen and broaden technical assistance and capacity building expertise | Partnerships are not required at the community level but are encouraged to ensure meaningful coordination and engagement across stakeholders.
Anticipated Funding Levels per Cooperative Agreement | $4-$5 million | None directly. | $1-$2 million | None directly.

DOT staff from headquarters and from regional and division offices will be identified to serve as Federal liaisons with both the National and Regional Capacity Builders and with selected TCP communities to facilitate connections with other Federal technical assistance resources that can assist in project pre-development, community engagement, planning, financing, and project delivery activities. The DOT Navigator [https://www.transportation.gov/dot-navigator] provides information on existing DOT-supported technical assistance resources that may be a useful reference for Capacity Builders. Note that key definitions for terms relevant to TCP are provided in section H.1 of this NOFO.

a. National Capacity Builder Program

As it did in the first year of the program, the FY 2023 the TCP-N will provide technical assistance, planning, and capacity building support at a national level to help communities scope, develop, and deliver transportation projects that advance community stabilization or revitalization activities that benefit disadvantaged populations and communities. Within the project scoping, development, and design phases, the TCP will support and build local capacity to accelerate projects; access and manage Federal funding; and deploy local hiring, workforce development, and inclusive community engagement practices. DOT seeks applications from technical assistance, planning, and capacity building providers—henceforth referred to as TCP-N Capacity Builders. Eligible applicants are identified in section C.1. of this NOFO.

i. Individualized Deep Dive Technical Assistance, Planning, and Capacity Building Support

The primary focus of support through TCP-N is on assisting individual communities—recipients include government agencies and their community partner organizations—to successfully advance projects identified through meaningful public involvement that deliver a broad set of transportation, climate, equity, housing, economic, and other community benefits. DOT is requiring communities, through a separate Letter of Interest (LOI) process, to form and apply as coalitions with organizations that may also serve as local capacity building and technical assistance implementation partners and generate deeper community engagement, particularly from historically under-represented populations and environmental justice stakeholders. The composition of these community partnerships will be at the discretion of each LOI applicant and identified in their LOI, but could include other government entities, non-profits, non-governmental and community-based organizations, labor unions, advocacy groups, chambers of commerce and major employers or anchor institutions, and philanthropic organizations. For an overview of the communities selected in FY 2022, their challenges, and their visions for TCP support, visit the FY 2022 Selected Communities Fact Sheet [https://www.transportation.gov/grants/thriving-communities/thriving-communities-program-fy-2022-selected-communities-fact-sheet].

Each TCP-N Capacity Building team will provide individualized deep-dive support to a set of 15-20 communities selected by DOT. DOT will assign these recipient communities to a specific TCP-N Capacity Builder team prior to finalizing cooperative agreements. Note that there may be more than one Capacity Builder team per Community of Practice, and the final number of communities assigned by DOT to the TCP-N Capacity Builder teams will be informed by the LOIs received. Once matched with the DOT-selected communities, TCP-N Capacity Builders will develop processes to engage with these recipients and their community partners to co-design a tailored scope of work and set of equitable development outcomes to be achieved over a two-year period within 90 days of the period of performance start date.

Technical assistance, planning, and capacity building support could include, but is not limited to, the following set of activities:

• identifying and responding to funding opportunities that align with projects that implement local community mobility, access, climate, and community development goals and regional or statewide plans

• activities to support grant writing, project management, and compliance with grant administration requirements

• conducting project scoping, planning, and pre-engineering studies, market, and other technical analysis

• supplementing local staffing and workforce development capacity

• developing systems or structures that improve compliance with Federal grant management, including but not limited to Title VI of the Civil Rights Act, the Americans with Disabilities Act, section 504 of the Rehabilitation Act, and procurement requirements

• supporting comprehensive community planning activities that better coordinate transportation with other land use, housing, climate, health, and other infrastructure

• implementing innovative public engagement strategies, particularly to involve traditionally underrepresented voices in the planning, project identification, and prioritization process.

• sub-granting to local technical assistance and capacity building partners who bring local expertise and capacity

• building organizational capacity to strengthen relationships between key stakeholders that deepen regional engagement and collaboration, position partners for future funding opportunities, and/or support inclusive planning processes

• evaluating and establishing emerging transportation and planning technologies, data systems, and software

ii. TCP Community of Practice Support

To build collective and sustained learning, TCP-N Capacity Builders will also support a Community of Practice throughout the period of performance that facilitates peer learning across selected TCP communities. This may include face-to-face meetings, as well as web-based collaborative environments to communicate, connect, and conduct activities that collectively facilitate long-term capacity building and systems change. Applicants should propose methods and tasks that will be undertaken to support a Community of Practice among the specific communities they are assigned to support and within the individual communities to build capacity between the lead applicant and community partners. DOT believes that communities best know the specific challenges and opportunities they face. TCP-N Capacity Builders will utilize a community-centered approach to work with selected recipient communities to refine the areas of focus for specific places and for the overall Community of Practice.

The full period of performance for the TCP-N is three years; however, during the third year Capacity Builders will shift away from individualized community support and focus on program evaluation and reporting, transition activities for assigned communities within the Community of Practice and developing shared resources for sustained learning for those within and outside of the Community of Practice. See section B for more information.

Communities of Practice Typology

DOT established three Communities of Practice in FY 2022 to organize communities and their technical assistance, planning, and capacity building needs in relation to shared demographics, transportation challenges, and programmatic opportunities. These include Main Streets, Complete Neighborhoods, and Networked Communities. TCP seeks to amplify the program's impact and generate noteworthy practices that can be scaled and replicated in other regions. Within selected communities, Community of Practices provide an opportunity to foster cross-sector collaboration between the lead recipient of technical assistance (i.e., eligible government entities), their identified community partners, and other community stakeholders that have not historically been engaged in infrastructure, economic and community development planning and decision making; or those who bear the heaviest environmental, health, mobility, housing, economic and/or social costs of infrastructure projects. These Communities of Practice will be maintained for the FY 2023 program and include:

Main Streets

The Thriving Communities Main Streets communities of practice consists of eligible rural recipients from Indian Tribes, US Territories, rural communities, and small towns, including communities that are not part of an MPO. Less dense populations, longer travel distances, older and changing demographics, declining, or transitioning economies, and smaller government budgets and inadequate staff are just a few of the shared challenges faced by this cohort, which also impact the ability of government to deploy innovative workforce development, climate resilience, equity, and technology solutions. Illustrative of the possible transportation issues that this cohort may address are road network improvement and safety projects; resiliency and climate related improvements; improving infrastructure conditions alongside strategies to support economic and community revitalization with investments in high-speed internet deployment, water and sewage lines, and electric vehicle charging stations; rural transit, micro mobility and transportation alternatives including multimodal trails; context sensitive design solutions that will improve mobility and access particularly for disadvantaged populations and populations of older adults, people with disabilities, youth, and those without access to a personal automobile; transportation worker recruitment and training strategies; and place-making strategies to leverage local cultural, natural, and community assets. State DOTs are a critical partner, facility owner, and funder in these communities.

TCP-N Capacity Builder teams seeking to support the Main Streets Community of Practice must demonstrate their expertise and familiarity in working with rural, U.S. Territories, and/or Tribal communities, such as through members of their team that have experience working with culturally, racially, language diverse communities (e.g., experience working with immigrant communities, foreign language competencies), or proven experience working on Federal Tribal and rural transportation, community, housing, and economic development programs.

Complete Neighborhoods

The Complete Neighborhoods Community of Practice consists of eligible urban and suburban recipients that are included in a metropolitan planning organization's (MPO) planning area. This cohort is focused on comprehensive strategies to enhance community connectivity, improve coordination of land use, housing, economic development, and transportation, and to accelerate innovation specifically for disadvantaged communities or neighborhoods. Areas of persistent poverty and declining economies or property values create challenges for some, while others may be experiencing market-induced or climate-induced gentrification and displacement. Technical assistance and capacity building can advance equity by addressing the inequities and systemic barriers created by decades of discrimination, segregation, urban renewal, and suburban sprawl impacting these communities.

Illustrative of the possible transportation issues that the Complete Neighborhoods Community of Practice may address are increasing accessibility to affordable and reliable multi-modal transportation options to reach regional jobs and community facilities, such as health care centers, libraries, public schools and grocery stores; deploying transit-oriented and walkable development policies; reducing greenhouse gas emissions and improving air quality; and improving safety for all users of the transportation system including bicyclists, pedestrians and people of all ages and abilities. This cohort will look to leverage planning, project development and transportation projects that serve community and economic development goals and promote revitalization strategies, such as street level retail and community space, urban place-making, and local and economic hiring preferences to support community wealth building in economically disadvantaged communities within the region. MPOs and other types of regional planning bodies are important infrastructure implementation partners, especially to coordinate transportation with housing and economic development planning and advance projects benefitting disadvantaged communities.

Networked Communities

The Networked Communities Community of Practice consists of eligible recipients from urban, suburban, and rural communities that are located near intercity transportation facilities, such as ports, airports, and freight or passenger rail facilities. These communities may face local environmental justice, economic development, and mobility access issues exacerbated by their proximity to large-scale regionally or nationally significant transportation projects. Networked Communities have a distinct need to work with a range of stakeholders to advance equity by addressing both existing and future mobility, health and safety, and workforce development and labor opportunities from locally disadvantaged communities given the context of each hub. Illustrative of the possible transportation issues that this cohort may face are community access and connectivity; roadway safety and design improvements, including of major arterials and service roads; strategies to reduce air and noise pollution, including transitioning to decarbonization technologies and clean economies; or preparing for new or extended passenger rail service. Private sector partners may play a critical role as utility and facility owners, rail operators, port and airport authorities, whose interests are generally broader than those of the surrounding community. The technical assistance priorities for the Networked Communities Community of Practice can include advancing equity by addressing environmental injustice, mobility, pollution, public health, economic development, and land use planning through meaningful public involvement for communities, particularly those that are lower income and/or have a higher proportion of people of color, that reside near multimodal hubs. DOT may decide to create sub-cohorts within each of these Communities of Practice based upon the needs of the selected communities informed by the LOI process.

For the FY 2023 TCP-N, Capacity Builders will support the communities they have been specifically assigned for their selected Community of Practice and will also support networking across all Communities of Practice, including those established in FY 2022 and TCP communities that may be selected in future years to build upon and scale capacity building resources and learning opportunities. DOT may assign Capacity Builders to provide targeted technical and limited support to TCP communities and/or other DOT and Federal technical assistance recipients, as needed, to assist disadvantaged communities and government agencies to advance projects and processes aligned with DOT's Strategic Plan and Equity Action Plan priorities for equity, workforce development, labor and hiring preferences, small business development and procurement, climate, safety, technology transformation. TCP-N Capacity builders are not expected to provide targeted support to more than a total of 20 total communities.

b. Thriving Communities Regional Pilots (TCP-R)

For the FY 2023 TCP, up to five TCP-Rs will be funded to advance transformative infrastructure projects in disadvantaged communities or jurisdictions located within a specific State, Tribe, or metropolitan region that face barriers to implementation. For the TCP-R, “region” refers to the geographic area within an individual State or Indian Tribe; or the service area covered by a regional transportation or planning organization. The TCP-R will fund efforts by State, Tribal, local, or regional organizations to provide technical assistance, planning and capacity building support for transportation projects located within their geography or service area that align with housing, economic development, public health, climate, and other community development plans and goals. Eligible applicants for TCP-R will select the communities within their jurisdiction or service area to receive technical assistance and capacity building support through TCP and will use TCP funding to advance these types of transportation projects forward into the next phase of development, deepen community engagement, and align with local or regional zoning, land use, economic development, or other plans and investments. This may include, but is not limited to:

• identifying funding opportunities that align with transportation goals and advance mobility access, climate resilience, equitable community development, healthy communities in support of regional or statewide plans

• supporting predevelopment planning and scoping of projects that coordinate transportation with other land use, housing, and infrastructure development

• building organizational capacity and strengthened relationships between key stakeholders that deepen regional engagement and collaboration, position partners for future funding opportunities, and/or support inclusive planning processes

• fund planning and technical assistance activities that reform local land use and zoning policies to align transportation infrastructure investment with equitable community development;

• establishing pooled resources or innovative funding tools that increase community investments in transportation, housing, environment, and health;

• supporting regional economic and workforce development that promotes local hiring, access to transit, and jobs in high quality industries

• designing and implementing activities to deepen and expand meaningful public involvement, especially to populations that are under-represented in traditional planning processes and/or are experience disproportionate transportation, environmental, or social burden

• activities to support grant writing, project management, and compliance with grant administration requirements

• peer-learning, networking, and knowledge sharing on strategies, types of tools, and lessons learned with other communities in the applicant's State or region.

DOT recognizes that many States, Indian Tribes, MPOs, and other regional government and non-governmental entities are already undertaking, or would like to undertake this important work, but require additional resources in order to amplify their impact and more comprehensively provide support to local communities. The TCP-R is intended to fund these State, Tribal, and regional organizations to scale up support to enable communities to develop, fund, and deliver critical community-driven projects. Applicants must commit to providing support to communities within their jurisdiction over a three-year period to plan, develop, and deliver transportation projects that interface with housing, climate, safety, economic development, public health, and other sectors that align with TCP goals. The first two years of the period of performance should be dedicated to providing targeted support to selected communities, as well as peer learning and exchange activities between these selected communities and others within their region. During the third year, TCP-R Capacity Builders will be expected to focus on program evaluation, reporting, transition activities, and developing resources for long-term capacity building. See section B for more information.

2. Changes From FY 2022 Thriving Communities Program

This FY 2023 NOFO updated and revised some key aspects of the program. These include the following:

• Extension of the period of performance to three years, with the first two years focused on deep-dive individual community support, peer learning, and collaboration and the third year focused on evaluation, reporting, community transitioning, and resource sharing.

• The inclusion of a separate Regional Pilot Program.

• Reductions to the maximum award amounts from up to $6 million to up to $5 million per National Capacity Builder and increases the number of communities served by each Capacity Builder from 10-15 to 15-20.

• Revisions to the merit rating criteria, including how applicants should respond to each criterion.

• Changes to the requirements for targeted support to supported communities, including a new requirement to subgrant at least 20 percent of the budget to community recipients.

• Option to renew FY 2023 selected Capacity Builder cooperative agreements for a second round of funding for FY 2024 (i.e., re-select Capacity Builders for a second three-year period of performance), subject to authorization and available funding.

3. Coordination Across the Federal Government

The TCP is one of several technical assistance programs administered through DOT's Build America Bureau. Participation in technical assistance programs is voluntary and does not obligate the awardee or recipients to apply for DOT grants or credit programs in the future, nor does participation offer preferential treatment to future applications or a guarantee of Federal funding.

The US Department of Housing and Urban Development (HUD) received $2.5 million from the FY 2023 appropriations bill to coordinate with DOT's TCP. HUD will separately provide funding to technical assistance providers to help jurisdictions consider housing and community development needs as part of transportation infrastructure plans (for example, identifying land that is near planned transportation projects and suitable for housing development). HUD's technical assistance will enable more communities to thoughtfully plan and boost location-efficient housing supply. Applicants interested in HUD's Thriving Communities Technical Assistance NOFO should visit https://www.huduser.gov/portal/nofos/thriving-communities.html.

The TCP will coordinate with and leverage other Federal place-based technical assistance and capacity building initiatives being coordinated through the Federal Thriving Communities Network [https://www.transportation.gov/federal-interagency-thriving-communities-network] to provide comprehensive support to selected recipient communities. This may include, but is not limited to USDA's Rural Partners Network, the Interagency Working Group on Coal and Power Plant Communities and Economic Revitalization, the Economic Development Administration's Build Back Better Regional Challenge, the General Service Administration's Center for Urban Development, and the Environmental Protection Agency's Environmental Justice Thriving Communities Technical Assistance Centers.

B. Federal Award Information

Under the Consolidated Appropriations Act, 2023 (Pub. L. 117-328), Congress provided DOT with $25,000,000 for the Thriving Communities Program, to be obligated by September 30, 2025. DOT will also utilize up to $1 million in funds remaining from the FY 2022 TCP as part of this NOFO, for a total of up to $22 million available. If DOT identifies additional funding after the release of this NOFO, DOT may elect to award such additional funding to Capacity Builders selected under this NOFO, as permitted by law. Of the funds provided, DOT anticipates awarding at least three separate cooperative agreements to TCP-N Capacity Builders; and potentially as many as five, depending upon the needs of the selected communities informed by the LOI process and the number of TCP-Rs awarded. DOT anticipates awarding at least four separate cooperative agreements through the TCP-R. Cooperative agreements will be managed through substantial involvement by the Office of Technical Assistance in DOT's Build America Bureau (see Federal Award Administration Information in section F of this NOFO).

DOT will determine the amount of funds to be awarded but anticipates a range of $4,000,000 to $5,000,000 for each TCP-N cooperative agreement; and a range of $1,000,000 to $2,000,000 for each TCP-R cooperative agreement. Multiple cooperative agreements are expected, with an aggregate total of approximately $22,000,000. Awards are at 100 percent Federal share. Final decisions on the amount of funding per award and number of cooperative agreements will depend upon applications received in response to the NOFO as well as the demand from community applicants expressed through Letters of Interest. DOT may elect to award any unobligated funding through future NOFOs, if necessary.

1. Period of Performance

a. National Capacity Builders Period of Performance

The period of performance for the FY 2023 TCP-N will be three years (36 months) from the date of execution in DOT's electronic grants management system, unless the period of performance is extended before expiration. The first two years of the period of performance must be dedicated to providing targeted, deep-dive support to assigned communities in accordance with the scopes of work co-designed with communities. TCP-N Capacity Builders will also be expected to conduct Community of Practice activities during the first two years of the period of performance. During the third year of the period of performance, TCP-N Capacity Builders will shift focus to evaluation, reporting, resource development, and transitioning communities to self-sustaining capacity building. The third year of the period of performance must include:

• Strategic, targeted community of practice communications (outlined in the workplan)

• Transition plan for awardees, which could include:

○ Stewarding existing cohort into sub-groups or other longer-term capacity building models (based on geography or areas of interest), if applicable

○ Connecting communities to other technical assistance resources or networks

○ Bridging new partnerships that can leverage future funding (e.g., conferences/workshops/meetings with philanthropy, regional or State partners, etc.)

• Elevating project wins and learnings via social media, blogs, etc. (in partnership with DOT)

• Developing publicly available educational tools and resources (e.g., toolkits, web-based portals)

• Participating in a Federal convening with new TCP awardees (for FY 2024, subject to program authorization and appropriation) or other Federal technical assistance networks

• A final report from Capacity Builders summarizing the goals, impacts, process, and lessons learned from engagement with each individual community and for the cohort as a whole.

If funding is appropriated for an FY 2024 TCP, and there is no change in the TCP's authorization, DOT may elect not to issue a new NOFO for the FY 2024 program; rather, it may select National Capacity Builders from the FY 2023 awardees, provided that DOT determines that awardees have demonstrated an appropriate level of performance and that awardees have sufficient capacity to and agree to provide support to a new cohort of communities. In this case, the Capacity Builders would be asked to demonstrate capacity and propose a detailed plan and budget to support additional communities. DOT would then establish a new cooperative agreement with existing Capacity Builders for an additional three-year period of performance with FY 2024 funds. If FY 2023 Capacity Builders have not demonstrated an appropriate level of performance, DOT may select new Capacity Builders for FY 2024 from other Highly Recommended applicants from FY 2023.

Subsequent year funding and additional funding from DOT will depend upon priorities established by the Secretary of Transportation, future authorizations and appropriations, and the Thriving Communities' annual performance reviews.

b. Thriving Communities Regional Pilot Program Period of Performance

For the FY 2023 TCP-R Program, the period of performance will be three years (36 months) from the date of execution in DOT's electronic grants management system. The first two years of the period of performance must be dedicated to providing support to the communities identified in the application, in accordance with the activities described in the application. The third year of the period of performance will be focused on program evaluation and reporting, transition activities for communities, and collecting and sharing lessons learned and best practices from the first two years of support, including sharing information with communities outside those who received targeted support in the first two years to scale impact of the program.

The third year of the period of performance must include:

• Strategic, targeted community of practice communications (outlined in the workplan)

• Transition plan for awardees, which could include:

○ Stewarding existing cohort into sub-groups or other longer-term capacity building models (based on geography or areas of interest), if applicable

○ Connecting communities to other technical assistance resources or networks

○ Bridging new partnerships that can leverage future funding (e.g., conferences/workshops/meeting with philanthropy, regional or State partners, etc.)

• Elevating project wins and learnings via social media, blogs, etc. (in partnership with DOT)

• Developing publicly available educational tools and resources (e.g., toolkits, web-based portals)

• Participating in a Federal convening with new TCP awardees (for FY 2024, subject to program authorization and appropriation) or other Federal technical assistance networks

• Final reporting and program evaluation.

If funding is appropriated for an FY 2024 TCP, and there is no change in the TCP's authorization, DOT may elect not to issue a new NOFO for the FY 2024 program; rather, it may select Regional Capacity Builders from the list of Highly Recommended, but not selected, applicants from FY 2023. In this case, DOT would contact Highly Recommended applicants to request confirmation that applicants are still interested in participating in the program and have the capacity to do so before selecting them for participation in the FY 2024 program.

Subsequent year funding and additional funding from DOT will depend upon priorities established by the Secretary of Transportation, future authorizations and appropriations, and the Thriving Communities' annual performance reviews.

C. Eligibility Information

1. Eligible Applicants

For both the TCP-N and TCP-R, those applying to provide technical assistance, planning, and capacity building can apply individually or as part of a team of eligible applicants. DOT seeks Capacity Builders that have technical knowledge across a diverse set of issues and skills; therefore, the lead applicant is strongly encouraged to partner with other eligible organizations to create Capacity Building teams that represent a range of technical skills, geographic connections and capacity building approaches. If applying as part of a team, the lead applicant must be clearly identified and submit the application on behalf of the team. The cooperative agreement will be between DOT and the lead organization, which is the primary recipient of DOT TCP funds. The recipient may make contracts or subawards ¹ to other team members, but the recipient is responsible for compliance with Federal requirements, including 2 CFR parts 200 and 1201.

¹ Refer to 2 CFR 200.1 (Definitions) [https://www.ecfr.gov/current/title-2/subtitle-A/chapter-II/part-200/subpart-A/subject-group-ECFR2a6a0087862fd2c/section-200.1] and 2 CFR 200.331 (Subrecipient and contractor determinations) [https://www.ecfr.gov/current/title-2/subtitle-A/chapter-II/part-200/subpart-D/subject-group-ECFR031321e29ac5bbd/section-200.331] for more information. Refer also to the TCP Fact Sheet on Subcontracting and Subwards posted on the program website.

For the TCP-N Capacity Builders, eligible lead applicants are non-profit organizations, philanthropic entities, and other technical assistance providers, including but not limited to for-profit organizations and academic institutions, with a demonstrated capacity to develop and provide technical assistance, planning, and capacity building to a range of communities located across multiple States and regions (i.e., applicants must demonstrate capacity to provide support at a national level, not just within specific regions or geographies).

For the TCP-R, eligible lead applicants are State governments and their agencies; local governments and their agencies; Indian Tribes; regional, Tribal, or statewide planning non-profit organizations; and governmental planning, economic development, or transportation organizations working at the regional or metropolitan level involved with transportation issues.

Where applicable, each lead applicant and co-applicant must provide documentation that supports each lead applicant's or co-applicant's organizational status as an eligible entity. Refer to section D.2(b) of this NOFO for more information on organizational documentation requirements.

2. Cost Sharing and Matching

No cost sharing or matching is required as a condition of eligibility under this competition. DOT will fund up to 100 percent of eligible project costs. However, TCP-N and TCP-R applicants that demonstrate an ability to leverage other funding, including from philanthropy, and other Federal funding sources (e.g., formula funds, State or local resources and in-kind contributions of staff, volunteer time, facilities, or other resources) to amplify program impact and support Thriving Communities Program goals and objectives in the long-term will be prioritized.

3. Eligible Project Costs

Eligible costs include those that the Capacity Builders undertake to directly assist in the development of technical assistance, planning, or capacity building for communities to carry out eligible projects and plans for which the award has been granted. Eligible costs also include subgrants to build community capacity, including staff and benefits plus other overhead costs such as rent, utilities, and office equipment, hiring of new staff and fellows, building IT systems for application processes and reporting, and website development for education and training.

For both TCP-N and TCP-R applicants, DOT will give preference to applications with the highest percentage of identified targeted support budgeted for community recipients and their partners. “Targeted support” means activities that directly enable the community to advance efforts identified in their scope of work. This may include, for instance, direct subgrants for the community to allocate internally; funding to provide community stipends or pay for staffing, apprenticeship, or fellowship positions located within the selected communities; access to mapping, design and engineering, modeling, civic participation or other data analytic or community engagement software tools; no-cost consulting services; Capacity Builder staff time dedicated to activities to advance individual communities' scopes of work, including travel; or other types of direct support. Activities to support the overall Community of Practice (e.g., trainings, convenings, or webinars that support all or multiple communities within the cohort) and overall program administration and grant management activities are not considered targeted support.

For both TCP-N and TCP-R applicants, no more than 25 percent of the proposed budget may be allotted to program administration and grant management activities (e.g., workplan development, invoicing, team meetings, evaluation report), and at least 20 percent of the proposed budget must be allocated for subgrants to communities and their partners. All applicants are expected to plan for at least one visit to each assigned community per year for the first two years of the period of performance.

Consistent with the provisions in 2 CFR 200.400, the Recipient may not earn or keep any profit resulting from funds awarded under this NOFO. Recipients may not allocate profit fees in their proposed or final budget.

Eligible activity costs must comply with the cost principles set forth in 2 CFR subpart E (i.e., 2 CFR 200.403 and 200.405). DOT reserves the right to make cost eligibility determinations on a case-by-case basis.

D. Application and Submission Information

Applications must include the materials listed in section D.2 of this NOFO to be considered for funding.

1. Address To Request Application Package

Applications will only be accepted electronically through www.grants.gov (Grants.gov) under Opportunity Number DOT-TCP-FY23-01. Potential applicants may also request paper copies of materials at:

Telephone: 202-366-7738.

Mail: U.S. Department of Transportation, 1200 New Jersey Avenue SE, W12-412, Washington, DC 20590.

2. Content and Form of Application Submission

This section describes the DOT and Federal grant assistance forms and other documents required for a complete application for both the TCP-N and TCP-R Programs under this NOFO. An application checklist can be found in appendix A of this NOFO.

Sharing of Application Information—The Department may share application information within the Department or with other Federal agencies if the Department determines that sharing is relevant to the respective program's objectives.

a. Required Forms

All applicants must submit the following required forms:

• Application for Federal Assistance (SF-424)

• Budget Information for Non-Construction Programs (SF-424A)

• Disclosure of Lobbying Activities (SF-LLL)

All relevant forms must be signed electronically by the applicant's Authorized Organizational Representative (AOR); please see section D.6 of this NOFO for information on AOR requirements. The preferred electronic file format for attachments is Adobe portable document format (PDF); however, DOT will accept electronic files in Microsoft Word or Microsoft Excel formats. DOT will not accept paper, facsimile, or email transmissions of applications. All documentation and data submitted should be current and applicable as of the date submitted. Applicants may contact the appropriate contact listed in section G for technical assistance before submitting an application.

b. Organizational Documentation

Each lead applicant and co-applicant must provide documentation that supports each lead applicant's or co-applicant's organizational status as an eligible entity where applicable (section C.1 of this NOFO).

• States, Indian Tribes, cities, or other political subdivisions of States, and institutions of higher education that are 100% publicly controlled are not required to submit organizational documentation.

• Nonprofit organizations must submit documentation that demonstrates their status as nonprofit organizations. This must include articles of incorporation, bylaws, certificate of good standing, and a copy of the most recent (not older than 18 months) IRS Form 990 (Return of Organization Exempt from Income Tax) (without attachments or schedules).

• Other entities, including institutions of higher education that are not 100% publicly controlled, must provide documentation that demonstrates their organization type.

c. Organization Descriptions

A one-page organization or company profile must be provided for each member of the Capacity Building Team. These may be publicly shared as part of the organization introductions. Profiles should include the organization name, its role on the team, number of employees; location of office or its geographic scope; whether it is a certified disadvantaged business enterprise (e.g., 8(a) business), as defined by the Small Business Administration (SBA), a small business as defined by the SBA, a Historically Black College or University, a Minority Serving Institution, a HUBZone, or woman owned or service-disabled veteran-owned small businesses; ² a brief summary of the type of services it provides; and involvement of team members that represent the types of communities and stakeholders to be served. Key staff members of each organization should be shown.

² Additional DOT guidance on small business contracting can be found at https://www.transportation.gov/sites/dot.gov/files/2021-03/508_OSDBU%20Contracting_03102021.pdf.

A template is provided for the fulfillment of this requirement. DOT recommends, but does not require, the use of the template.

d. Indirect Costs (if Applicable)

If indirect costs are included in the budget, the applicant must include documentation to support the indirect cost rate they are using (unless claiming the 10 percent de minimis indirect cost rate, discussed below). The applicant must submit a copy of its current, approved, and negotiated indirect cost rate agreement (NICRA). If the applicant does not have a current or pending NICRA, it may propose indirect costs in its budget; however, the applicant must prepare and submit an allocation plan and rate proposal for approval within ninety days from the award start date (unless claiming the 10 percent de minimis indirect cost rate, discussed below). See 2 CFR part 200 apps. III, IV, V, VI, VII for guidance. The allocation plan and the rate proposal shall be submitted to DOT. The applicant should include a statement in its Budget Narrative that it does not have a current or pending NICRA and will submit an allocation plan and rate proposal to DOT or the applicant's cognizant Federal agency for approval.

In accordance with 2 CFR 200.414(f), an applicant that does not have a current negotiated (including provisional) rate, may elect to charge a de minimis rate of 10 percent of modified total direct costs (subject to the exceptions of § 200.414(f)). No documentation is required to justify the 10 percent de minimis indirect cost rate; however, an applicant electing to charge a de minimis rate of 10 percent must include a statement in its Budget Narrative that it does not have a current negotiated (including provisional) rate and is electing to charge the de minimis rate.

If the applicant is a State or local unit of government or an Indian Tribe that receives less than $35 million in direct Federal funding per year it may submit any of the following:

• a Certificate of Indirect Costs from the Department of the Interior (DOI) or DOT;

• an acknowledgment received from the Department of Interior (on behalf of DOT) and a Certificate of Indirect Costs in the form prescribed at 2 CFR part 200, app. VII; or

• a NICRA.

e. Executive Summary

The Executive Summary will not be evaluated as part of application review. If the applicant is selected for funding, the Executive Summary may be used in a public announcement or on DOT's website.

TCP-N Capacity Builders

Applicants are required to submit an Executive Summary of no more than 500 words that must:

• Clearly indicate the application is to be considered as a Thriving Communities National Capacity Builder.

• Clearly identify which specific Community of Practice the applicant is seeking to be considered to support (the applicant should select only one Community of Practice). DOT reserves the right to assign a Capacity Builder to a different Community of Practice, with confirmation from the Capacity Builder, if it determines the Capacity Builder has the skills and experience necessary to serve communities in that Community of Practice.

• Provide a clear, concise, and descriptive summary of the proposed approach to technical assistance and capacity building, including identifying the types of targeted support that will be provided with DOT resources and how this support is anticipated to build local capacity and advance Thriving Communities Program goals within the Community of Practice it seeks to support.

• Briefly discuss the strengths that its team provides in areas of technical depth, diversity and capacity building approach to underserved and disadvantaged communities.

• Identify the amount of funding the applicant is requesting.

In addition, but separate from the 500-word limit, list all proposed Capacity Builder team organizations and indicate whether the organizations are designated as any of the following:

• a disadvantaged business (e.g., 8(a) business) as defined by the U.S. Small Business Administration (SBA);

• a small business as defined by the SBA;

• a Historically Black College or University;

• other Minority Serving Institution;

• a HUBZone as defined by the SBA; or

• A woman-owned or service-disabled veteran-owned small business as defined by the SBA.

TCP-R Capacity Builders

Applicants are required to submit an Executive Summary of no more than 500 words that must:

• Clearly indicate the application is to be considered as a Thriving Communities Regional Pilot Capacity Builder.

• Clearly identify the communities to be supported, anticipated technical assistance and capacity building needs, and how they intersect with plans for State or regional housing, economic development, public health, climate and other community development goals.

• List all proposed members of the TCP-R applicant team.

• Provide a clear and concise descriptive summary of the proposed approach to supporting selected communities, including identifying the types of targeted support that will be provided with DOT resources that cannot be met with existing resources, and how this support is anticipated to build local capacity and advance Thriving Communities Program goals.

• Briefly discuss the strengths that the applicant provides in areas of technical depth, diversity and capacity building to underserved and disadvantaged communities within its service area (i.e., the State, region, Tribal, or MPO boundaries).

f. Narrative Responses Addressing Merit Rating Criteria Sub-Factors

As detailed in NOFO section E, “Application Review Information,” any applicant that does not submit a narrative response that addresses each of the 10 Merit Rating Criteria Sub-Factors within the page limits described below will not be eligible for review. See NOFO section E for more detail on the Merit Rating Criteria Sub-Factors. Your narrative responses for the two Priority sub-factors must be less than 3-pages each, and your narrative responses for all other sub-factors must be less than 1-page each (for a total limit of 14 pages across all ten sub-factors). Any additional pages will not be considered during the merit rating review. All page limits are single-sided 8.5x11-inch pages, with a minimum 12-point font and 1-inch margins.

g. Letters of Commitment From Communities (for TCP-R Applicants Only)

For each community that TCP-R applicants proposed to support, applicants must submit a Letter of Commitment signed by the community's top elected official or equivalent. Letters should clearly demonstrate that the community is aware of and receptive to receiving support through TCP over a two-year period. The Letter of Commitment should demonstrate alignment with the applicant's described support activities. Letters of Commitment can be submitted as PDF or Word document attachments.

h. Staffing Plan

All applications must include a Staffing Plan listing all position types proposed to be charged to the project for each Capacity Builder partner organization, whether as Federal or non-Federal costs. The Staffing Plan must include the position titles, hourly rates, and percentage of time dedicated to the project. The sum of all salaries charged to the project must equal the amount on the “Personnel” budget line item on Form SF-424A. The Staffing Plan should provide a description of the capacities each position type will contribute and how these positions will contribute to advancing the technical assistance and capacity building approach.

Given that additional technical assistance and capacity building needs may arise in response to the specific needs of selected communities receiving support, refinements can be made to the proposed staffing structure with DOT approval. Applicants are required to include strategic hiring plan that may be utilized to supplement or hire contingent staff that may work directly with recipients and their community partners to ensure continuity of services.

Proposals should identify key project staff to advance the identified technical assistance and capacity building approach. The proposal should include a one-page resume for each key project staff member. This should include a short summary of the individual's relative areas of expertise; years of experience; employment and education history; and brief snapshot of related project history noting work with disadvantaged communities, comprehensive economic or community development, and/or capacity building. Replacement of key staff are subject to DOT approval. At least one key staff member must be identified per Capacity Builder partner organization.

Resumes should be compiled and uploaded together as one PDF file. Mid-level or junior staff may be shown without identification or resumes. Key staff are defined as project managers, subject matter experts, and individuals who have specialized knowledge key to delivery of technical assistance.

i. Budget Proposal

Application submissions must include a completed SF-424A, Budget Information—Non-Construction Programs, form. In preparing the SF-424A, applicants should break down budget costs into the appropriate object class categories in section B of the form. A detailed budget narrative must accompany the SF-424A. The purpose of the narrative is to explain and justify the proposed project expenditures. For clarity and consistency, applicants should discuss each expense by object class in the order that they appear on the SF-424A. The narrative must include the dollar amounts of each object class category and include detailed descriptions of how the dollar amounts were derived. Include an explanation for each calculation and provide a narrative that supports each budget category listed on the SF-424A. The costs provided in the narrative must clearly equal total costs identified on the SF-424A form and match the total listed on line 15. Applicants may use the Budget Template as a starting point for their Budget Proposals and are encouraged to customize the template to fit their individual needs and provide an appropriate amount of detail. The Budget Proposal must include tables that organize and summarize the information presented in the narrative. The narrative, not including the table in the Budget Template, should not exceed three pages in length.

The budget must clearly show total program administration and grant management costs, which are not to exceed 25 percent of the overall budget; and identify those costs associated with targeted support. TCP-R applicants are encouraged to indicate in their budgets activities and funds allocated to meaningful public involvement activities.

All applicants must allocate at least 20 percent of their budget for sub-granting to communities to facilitate long-term capacity building and to compensate local community partners who are serving as technical assistance, planning, and capacity builders.

All applicants are expected to clearly delineate in the budget the support costs for the first two years of deep-dive targeted community support and peer learning support to the Community of Practice, and the third year solely focused on Community of Practice management and overall program reporting, knowledge sharing, evaluation, and transition planning.

The narrative for following class objectives must address:

Personnel Costs: Explain lead applicant personnel costs by listing each staff member who will be supported from funds, name (if possible), position title, percentage of full-time equivalency, and annual salary.

Fringe Benefits: List the components that comprise the fringe benefit rate, for example health insurance, taxes, unemployment insurance, life insurance, retirement plans, and tuition reimbursement. The fringe benefits should be directly proportional to that portion of lead applicant personnel costs that are allocated for the project.

Travel: Provide a narrative that explains the destination, estimated costs and type of transportation. Include the number of travelers and related lodging and subsistence (per diem costs) for each trip. Include a brief description of the travel involved, its purpose, and explanation of how the proposed travel is necessary for successful completion of the project. If travel details are unknown, then the basis for proposed costs should be explained (i.e., historical information)—do not “pull numbers out of the air” or list a lump sum estimate. Travel costs can be charged on an actual basis, on a per diem or mileage basis in lieu of actual costs incurred, or a combination of the two if applied consistently and results in reasonable charges. Applicants are expected to budget for at least one site visit per community each year for the first two years of the period of performance.

Equipment—“Equipment” is nonexpendable, tangible personal property with a unit cost of $5,000 or more having a useful life of more than 1 year. Items that do not meet the “equipment” definition can be included under supplies. List each piece of equipment to be purchased and provide description of how it will be used in the project. The budget narrative should explain why the equipment is necessary for successful completion of the project. General use equipment (i.e., computers, faxes, etc.) must be used 100% for the proposed project if charged directly to the Thriving Communities Program.

Supplies: List the supplies that the project will use to implement the proposed project. Please note, items such as laptops, tablets, and desktop computers are classified as a supply if the value is under the $5,000 equipment threshold.

Contractual: Provide a list of all contracts anticipated for the project. The contracts will be for services rendered by co-applicants, contractors, and consultants. Provide the purpose of each contract for services that you intend on awarding and award how the costs were estimated. Applicants should not provide line-item details on proposed contracts, instead provide the basis for your cost estimate for the contract. For co-applicant and consultant services, identify each consultant, the cost for each consultant, the services they will perform, anticipated hours or days, and travel costs. The recipient is responsible for ensuring that it has in place an established and adequate procurement system with fully developed written procedures for awarding and monitoring all contracts.

Other—Provide a list of all subawards anticipated for the project. Provide a clear explanation as to the purpose of subaward and justification. The actual number and costs of subawards may not be known until each of the individualized community assessments are completed. Applicant should provide an explanation on the basis for the cost estimate in this section. The recipient is responsible for ensuring it has in place an established and adequate grants management system with fully developed written procedures for awarding, reporting, and monitoring all subawards.

Grant Funds, Sources and Uses of Project Funds—Project budgets should show how different funding sources will share in each activity and present those data in dollars and percentages. The budget should identify other Federal funds the applicant is applying for or has been awarded, if any, that the applicant intends to leverage Funding sources should be grouped into three categories: non-Federal, Thriving Communities Program, and other Federal with specific amounts from each funding source.

For TCP-N Capacity Builders

DOT is interested in the opportunities for broader outreach and shared learning that can be supported through the dissemination of materials developed by TCP-N Capacity Builders, and by the lessons learned through the technical assistance engagement to inform future program design and impact. This will include quarterly virtual meetings with representatives of the Capacity Builders to be organized and conducted by DOT; and an annual in-person 1.5-day TCP convening that will include participation by Capacity Builders (estimate 4 people) and recipient communities including community partners (estimate 3 people per community). Capacity Builders should allocate a portion of their budget to support this involvement for themselves and the recipient communities. For the purpose of budget estimation, assume meetings are held in Washington, DC at average-priced travel periods.

DOT invites, but does not require, applicants to propose how they could provide targeted support to additional communities beyond those selected by DOT, within the budget provided or through leveraging other funding or associated technical assistance efforts that the applicant or its team members may also be supporting. If doing so, applicants must include information demonstrating these existing relationships and submit Letters of Commitment from other entities providing additional funding.

DOT will reimburse labor and direct costs incurred by the Capacity Builder team, including subcontractors. Capacity Builders should maintain a system for recording all project costs. Invoices must be transmitted to DOT monthly.

The Capacity Builder must notify DOT in writing when 50% of the project budget is expended. Further work must stop, and DOT must be notified in writing when 90% of the project budget is expended. Aggregate payment shall not exceed the cap shown in the cooperative agreement. Costs incurred over the cap shown in the cooperative agreement will not be reimbursed.

For TCP-R Capacity Builders

DOT is interested in the opportunities for broader outreach and shared learning that can be supported through the peer learning and knowledge sharing by regional organizations and their partners with other jurisdictions and organizations within the State, Tribe, or service area, including lessons learned through the pilot that can inform future program design and impact. This will include quarterly virtual meetings with TCP-R Capacity Builders to be organized and conducted by DOT, the potential to participate in one or more State or regional convenings, and potentially participation in the annual in-person 1.5-day TCP convening by the TCP-R capacity builder (estimate 2 people). TCP-R Capacity Builders should allocate a portion of their budget to support this involvement, but event specifics and their associated costs will be finalized in cooperative agreements and workplans. For the purpose of budget estimation, assume the annual convening is held in Washington, DC at average-priced travel periods.

DOT will reimburse labor and direct costs incurred by the TCP-R Capacity Builders. TCP-R Capacity Builders should maintain a system for recording all project costs. Invoices may be transmitted to DOT monthly.

DOT invites, but does not require, applicants to propose how they could leverage other funding or associated technical assistance efforts to support additional communities and/or support TCP goals in the long-term. If doing so, applicants must include information demonstrating these existing relationships and submit Letters of Commitment from other entities providing additional funding.

The TCP-R Capacity Builder must notify DOT in writing when 50% of the project budget is expended. Further, work must stop, and DOT must be notified in writing when 90% of the project budget is expended. Aggregate payment shall not exceed the cap shown in the cooperative agreement. Costs incurred over the cap shown in the cooperative agreement will not be reimbursed.

3. Unique Entity Identifier and System for Award Management (SAM)

To enable the use of a universal identifier and to enhance the quality of information available to the public as required by the Federal Funding Accountability and Transparency Act of 2006, all applicants are required to: (i) be registered in SAM before submitting an application; (ii) provide a valid unique entity identifier in the application; (iii) make certain certifications; and (iv) continue to maintain an active SAM registration with current information at all times during which they have an active Federal award or an application or plan under consideration by a Federal awarding agency. DOT may not make a Federal award to an applicant until the applicant has complied with all applicable unique entity identifier and SAM requirements and, if an applicant has not fully complied with the requirements by the time the DOT is ready to make an award, DOT may determine that the applicant is not qualified to receive an award and use that determination as a basis for making an award to another applicant. Award recipients will be subject to reporting requirements as identified in OMB guidance published at 2 CFR parts 25 and 170.

4. Submission Dates and Times

The deadline for the receipt of an application is 4:59 p.m. Eastern Time on November 28, 2023. Applications received after this deadline may not be reviewed or considered for funding. Applications will only be accepted electronically through Grants.gov. Applicants are advised to carefully read the submission information provided in section D of this NOFO. The Grants.gov system records the date and time that an application is received.

DOT strongly suggests that applicants start early, review instructions, and test systems well in advance of the application deadline. Applications should be submitted in advance of the deadline, and progress can be saved in the Grants.gov system. Applicants should save and print written proof of an electronic submission.

If technical issues arise that present difficulties for submission, applicants should notify DOT. DOT must receive communication via telephone, voicemail, or email regarding such technical difficulty by 4:59 p.m. Eastern Time on November 28, 2023; any correspondence regarding technical difficulties received after this deadline will not be considered as a reason to accept a late application. No extensions to the deadline will be considered. In cases of documented technical difficulty, the applicant is expected to submit the application immediately upon resolution of technical difficulties, or a subsequent deadline delivered in writing by DOT. In addition, please note the following:

• DOT will not accept any unsolicited changes, additions, revisions, or deletions to applications after the submission deadline.

• Throughout the review and selection process, DOT reserves the right to seek clarification from applicants whose applications are being reviewed and considered.

• Applicants may be asked to clarify objectives and work plans and modify budgets or other specifics as necessary to comply with Federal requirements and provide supplemental information required by the agency before award.

• See section E of this NOFO for application review and selection information.

5. Funding Restrictions

For funding restrictions that may affect an applicant's ability to develop an application and budget consistent with program requirements, see section C of this notice. DOT will not reimburse costs incurred before the cooperative agreement has been signed by DOT and the lead applicant.

The maximum dollar amount of allocable indirect costs for which DOT will reimburse a recipient will be the lesser of the (i) line-item amount for the Federal share of indirect costs contained in the DOT approved budget for the award, or (ii) Federal share of the total allocable indirect costs of the award based on either (a) the indirect cost rate approved by DOT (or applicable cognizant Federal agency), provided that the cost rate is current at the time the costs were incurred and provided that the rate is approved on or before the award end date, or (b) other acceptable documentation as indicated below.

6. Other Submission Requirements

The complete application must be submitted electronically via Grants.gov. To find this funding opportunity, search for DOT-TCP-FY23-01 via the Funding Opportunity Number field. The most up-to-date instructions for application submission can be found at https://www.grants.gov/web/grants/applicants/applyfor-grants.html. In the event of system problems or the applicant experiences technical difficulties, contact grants.gov technical support via telephone at 1-800-518-4726 or email at support@grants.gov.

Early Registration and Application Submission

In order to submit an application via Grants.gov, applicants must register with SAM.gov and Grants.gov. Registration can take between three to five business days or as long as four weeks. To avoid delays, DOT strongly recommends that applicants start early and not wait until the approaching deadline date before logging in, registering, reviewing the application instructions, and applying.

AOR Requirement

Applicants must register as organizations, not as individuals. As part of the registration process, you will register at least one AOR for your organization. AORs registered at Grants.gov are the only officials with the authority to submit applications; please ensure that your organization's application is submitted by an AOR. Note that a given organization may designate multiple individuals as AORs for Grants.gov purposes. DOT may not accept late submissions caused by registration issues with Grants.gov, SAM.gov, or other systems.

Field Limitations and Special Characters

Please be advised of the following notice with respect to form field limitations and special characters: https://www.grants.gov/web/grants/applicants/submitting-utf8-special-characters.html.

Successful Submission Verification

It is your responsibility as an applicant to verify that your submission was timely received and validated successfully at grants.gov. Applicants should use the “Track My Application” function (https://www.grants.gov/web/grants/applicants/track-my-application.html). For a successful submission, the application must be received and validated by Grants.gov, and an agency tracking number must be assigned. If the date and time your application is validated and timestamped by Grants.gov is later than 4:59 p.m. eastern time on the application deadline set forth in this NOFO, your application is late. Once validation is complete, the status will change to “Validated” or “Rejected with Errors.” If the status is “Rejected with Errors,” your application has not been received successfully. For more detailed information about why an application may be rejected, please consult with resources such as “Encountering Error Messages” (https://www.grants.gov/web/grants/applicants/encounteringerror-messages.html) and “Frequently Asked Questions by Applicants” (https://www.grants.gov/web/grants/applicants/applicant-faqs.html).

DOT requests that applicants kindly refrain from submitting multiple copies of the same application package. Applicants should save and print both the confirmation screen provided on the Grants.gov website after the applicant has submitted an application and the confirmation email when the application has been successfully received and validated in the system. If an applicant receives an email from Grants.gov indicating that the application was received and subsequently validated but does not receive an email from Grants.gov indicating that DOT has retrieved the application package within 72 hours of that email, the applicant may contact the email address listed in section G of this announcement to inquire if DOT is in receipt of the applicant's submission.

Grants.gov System Issues

If you experience a systems issue (i.e., a technical problem or glitch with the website) that you believe threatens your ability to complete a submission in a timely manner, please (i) print any error message received; (ii) contact the Grants.gov Support Center at (800) 518-4726 for assistance; and (iii) contact DOT using the contact information in section G of this NOFO in advance of the deadline. Ensure that you obtain a case number regarding your communications with Grants.gov. Please note that problems with an applicant's internet access, computer system or equipment are not considered systems issues. Similarly, an applicant's failure to, e.g., (i) complete the required registration, (ii) ensure that a registered AOR submits the application, or (iii) notice receipt of an email message from Grants.gov are not considered systems issues. A Grants.gov systems issue is an issue occurring in connection with the operations of Grants.gov itself, such as the temporary loss of service by due to unexpected volume of traffic or failure of information technology systems, both of which are highly unlikely. In the event of a confirmed systems issue, DOT reserves the right to accept an application in an alternate format.

Applicants can visit the Grants.gov Support Center [https://www.grants.gov/web/grants/support.html] for assistance in navigating Grants.gov and for a list of useful resources, including Frequently Asked Questions by Applicants [https://www.grants.gov/web/grants/applicants/applicant-faqs.html]. If you do not find an answer to your question there, contact Grants.gov by email at support@grants.gov or telephone at (800) 518-4726. The Grants.gov Contact Center is open 24 hours a day, seven days a week, except on Federal holidays.

E. Application Review Information

DOT will review applications in accordance with the requirements of this NOFO. DOT will consider whether the application is clear, concise, and well-organized. Throughout the review and selection process, DOT, at its sole discretion, may seek clarification, including but not limited to written clarifications and corrected or missing documents, from applicants whose applications are being reviewed and considered and require that applicants provide such clarifications or corrections to continue to be considered for an award under this NOFO. DOT will provide applicants a reasonable amount of time to provide any additional documentation. An applicant's failure to provide complete and accurate supporting documentation in a timely manner when requested by DOT may result in the removal of that application from consideration. DOT may ask applicants to clarify application materials, objectives, and work plans, or modify budgets or other specifics as necessary to comply with Federal requirements.

1. Merit Criteria/Rating Factors

The table below describes the four Rating Factors and the sub-factors for each. The descriptions of each individual Rating Factor notes where the requirements of the factor differ between the TCP-N and TCP-R programs. Further, some Rating Factors contain a Priority Sub-Factor, which are sub-factors that have been determined to be of higher priority than the others and are denoted with an asterisk in the table below. The table and language below also describe Additional Considerations and Priority Considerations, which the Senior Review Team considers when making its recommendations for selection.

TCP Rating Factors
Rating Factor 1: Approach to Technical Assistance and Capacity Building
A | Technical Assistance Approach.*
B | Capacity Building Approach.
C | Community of Practice Management Approach.
Rating Factor 2: Teaming Arrangement
A | Role of Partner Organizations.
B | Staffing Plan and Demonstrated Staff Expertise.
Rating Factor 3: Proven Success
A | Experience Supportive of Technical Assistance Approach.*
B | Experience Supportive of Capacity Building Approach.
C | Experience Supportive of Community of Practice Management Approach.
Rating Factor 4: Program Management and Evaluation
A | Schedule of Milestones and Deliverables.
B | Program Evaluation and Assessment.
Additional Considerations
A | Soundness of Proposed Budget.
Priority Considerations
A | Experience with Priority Geographies.
B | Diversity of Capacity Builder Teams.
C | Leveraging of Additional Funding Sources.
* Priority rating factor.

Each application will be assigned an overall score of “Highly Recommended,” “Recommended,” or “Not Recommended” based on the ratings for each of the four Rating Factors. See section E.2 below for more details.

a. Rating Factor 1: Soundness of Approach to Targeted Community Support and Capacity Building

i. Technical Assistance Approach (Priority Sub-Factor)

For TCP-N Applicants

Applicants must describe their proposed approach to providing customized support to 15-20 individual communities at a national scale over a two-year period for each of the following three key phases of transportation decision-making: Project Planning and Scoping; Project Development and Design; and Project Delivery. Selected Capacity Builders will be expected to provide technical assistance support to communities who may be in any of the three phases; therefore, DOT will evaluate the strength of the applicant's described approach to providing support in each of the three phases. These three phases are described in section H.1 of this NOFO.

In their narratives, applicants must describe their approach to:

• Co-designing an individualized scope of work with communities and their partners, including assessing existing technical capacity and assets.

• Providing technical assistance support specific to the three transportation decision-making phases.

• Incorporating meaningful and innovative public engagement strategies, including but not limited to engagement with non-English speakers, people with disabilities, and other under-represented groups bridging racial, cultural, and economic barriers that affect community participation; and strategies to tailor public involvement to unique community requirements and preferences.

• Building community wealth through transportation investments, innovative financing and leveraged funding approaches that address the unique challenges of under-resourced, low-tax base and credit-challenged communities.

• Supporting workforce development, hiring and labor practices benefitting local economically disadvantaged communities.

• Strategically planning onsite engagement with individual communities, including at least one visit to each community per year for the first two years of the period of performance.

For TCP-R Applicants

TCP-R applicants must identify and describe the communities that they have selected to support over two years of targeted support. As noted in section D.2(g) of this NOFO, applicants must submit Letters of Commitment from each community proposed for support in the application. Applicants must describe in detail how and why they selected these communities, addressing the following:

• The number of communities or projects the applicant intends to support with the requested funding amount.

• Metrics and methods for verifying disadvantaged status or transportation burden/disparity that the applicant used to select communities, including the use of tools such as CEJST and ETC Explorer.

In their narratives, applicants must also describe their proposed approach to providing support to these communities based on their individual needs, including:

1. the types of local projects and capacity building needs that will be supported through TCP funding and how this support will build longer term capacity and meet critical technical assistance needs that are not currently being supported through other resources.

2. how the proposed support will advance transportation projects that intersect with goals related to State or regional housing, economic development, public health, climate and other community development goals and help to advance implementation of related State, Tribal and/or regional plans.

3. how the work supported through the pilot may be scaled or leveraged to support additional communities within the applicant's service area (i.e., the larger metropolitan region, State, Territory or Tribe).

4. approach to incorporating meaningful and innovative public engagement strategies, including but not limited to engagement with non-English speakers, people with disabilities, and other under-represented groups; bridging racial, cultural, and economic barriers that affect community participation; and strategies to tailor public involvement to unique community requirements and preferences. DOT will give preference to applications with robust meaningful public engagement approaches. Refer to DOT's Promising Practices for Meaningful Public Involvement in Transportation Decision-Making [https://www.transportation.gov/priorities/equity/promising-practices-meaningful-public-involvement-transportation-decision-making] for a non-exhaustive list of public involvement tools and techniques.

5. approach to building community wealth through transportation investments, innovative financing and leveraged funding approaches that address the unique challenges of under-resourced, low-tax base and credit-challenged communities.

For this rating criteria, DOT will evaluate applicants based on the communities they propose to support, including their methods for selecting communities and the description of community need and how well they align with TCP goals. DOT will also evaluate the strength of the proposed approach to providing technical assistance support to these communities.

ii. Capacity Building Approach

For TCP-N Applicants

Applicants must describe how they will build lasting capacity for TCP recipients and their community partners through activities undertaken during the period of TCP support. Capacity building should focus on ways to improve the long-term ability of a community to design and undertake necessary technical, financial, business, and data analyses; meet Federal oversight and project management requirements; undertake statewide and metropolitan long-range planning and programming activities; and implement other activities that broadly support project planning, development, and delivery. This includes developing long-term community capacity to sustain partnerships and engage non-governmental partners, leadership and workforce development, and program evaluation.

Capacity building approaches should include an element of responsiveness to the needs of individual communities and adaptability over the period of performance. Applicants may propose different areas where they anticipate capacity needs to be the greatest, and strategies they envision deploying to meet these needs through individualized deep-dive support. They should also describe the process they will use to adapt capacity building approaches, as needed.

Applicants must address the following in their capacity building narrative:

• Approach to supplementing local staffing and workforce development capacity

• Approach to developing systems or structures that improve lasting compliance with Federal grant management, including but not limited to title VI of the Civil Rights Act, the Americans with Disabilities Act, section 504 of the Rehabilitation Act, and procurement requirements

• Approach to sub-granting to local technical assistance and capacity building partners who bring local expertise and capacity

• Approach to building organizational capacity to strengthen relationships between key stakeholders that deepens regional engagement and collaboration, positions partners for future funding opportunities, and/or supports inclusive planning processes

• Approach to evaluating and establishing emerging transportation and planning technologies, data systems, and software

As part of the capacity building narrative, applicants must also describe their planned activities for the third year of the period of performance to transition communities for sustained learning and capacity building. Refer to section B of this NOFO for more information on required activities for the third year of the period of performance.

DOT will evaluate applicants based on the strength of their proposed approach, considering long-term impacts and relationship building and the adaptability of the approach.

For TCP-R Applicants

Applicants must describe how they will build lasting capacity within supported communities to continue advancing transformative infrastructure projects. Capacity building should focus on ways to ensure that the projects or planning efforts supported by the TCP-R achieve results in the long-term, including how the proposed support will inform and potentially catalyze systems change improvements to advance community-driven projects in long-range plans, transportation improvement programs, and other formal processes used to inform and prioritize State, Tribal, and/or regional investments and funding decisions. Emphasis should be on ensuring that the project or plan moves forward within its current phase of development, and that the community continues to move the project forward, including once TCP support concludes.

Capacity building approaches should include an element of responsiveness to the needs of individual communities and adaptability over the period of performance. Applicants may propose different areas where they anticipate capacity needs to be the greatest, and strategies they envision deploying to meet these needs. They should also describe the process they will use to adapt capacity building approaches, as needed.

Applicants must address the following in their capacity building narrative:

• Approach to empowering communities to access planning, scoping, and funding resources in the long-term

• Approach to supporting local community partnerships and expanding collaboration

• Approach to developing systems or structures that improve lasting compliance with Federal grant management, including but not limited to title VI of the Civil Rights Act, the Americans with Disabilities Act, section 504 of the Rehabilitation Act, and procurement requirements

• Approach to evaluating and establishing emerging transportation and planning technologies, data systems, and software

• Approach to sub-granting to local technical assistance and capacity building partners who bring local expertise and capacity

As part of the capacity building narrative, applicants must also describe their planned activities for the third year of the period of performance to transition communities for sustained learning and capacity building. Refer to section B of this NOFO for more information on required activities for the third year of the period of performance.

DOT will evaluate applicants based on the strength of their proposed approach, considering long-term impacts and relationship building and the adaptability of the approach.

iii. Community of Practice Management Approach

For TCP-N Applicants

Selected Capacity Builders will be expected not only to provide individualized deep-dive support to their assigned communities but also to facilitate peer learning, networking, and knowledge sharing across communities facing similar challenges and building similar capacities. Applicants must describe an approach to managing communities of practice, building and sustaining cross-sector collaboration, and strategies for encouraging member engagement, and facilitating learning and capacity building across the communities within their assigned Community of Practice over the first two years of the period of performance. Applicants should also address how they will share knowledge to communities beyond the selected cohort during the third year of the period of performance to amplify program impact and learnings.

DOT will evaluate applicants based on the strength of their Community of Management approach and its ability to achieve TCP peer learning and networking goals.

For TCP-R Applicants

Applicants will not select a Community of Practice but are required to describe peer-learning, networking, and knowledge sharing activities that the applicant will facilitate among communities within the lead applicant's State or region. Applicants will describe strategies for engaging regional partners, building and sustaining cross-sector collaboration, and examples of tools used to prioritize community-based goals and objectives. The emphasis of these activities should be on addressing the unique State, Tribal, or regional challenges that are shared among participating communities.

Applicants should also address how they will share knowledge to communities within their jurisdiction that were not recipients of direct support provided by the TCP-R Capacity Builder, particularly during the third year of the period of performance. This kind of knowledge sharing should emphasize how support provided to communities during the support phase of the TCP-R Capacity Builder's work can serve as models for other communities.

DOT will evaluate applicants based on the strength of their peer learning approach and its ability to achieve TCP peer learning and networking goals.

b. Rating Factor 2: Staffing and Teaming Arrangement

i. Role of Partner Organizations

For All Program Applicants

DOT seeks Capacity Builders that have technical knowledge across a diverse set of issues and skills; therefore, the lead applicant is strongly encouraged to partner with other eligible organizations to form a diverse Capacity Builder team.

Applicants must describe the role of each partner organization on the Capacity Builder team, including the skills, knowledge, and expertise each organization brings to the team and how those skills and experience will be applied in the team's approach to technical assistance and capacity building. This description should align with the specific steps and activities described in the approach to technical assistance and capacity building. DOT will evaluate applicants based on the strength of their partnerships, including the diversity of skills, knowledge, and expertise the partner organizations bring and how well they align with the applicant's proposed approach. For TCP-R, DOT will evaluate the team's ability to address the specific needs of the proposed communities.

ii. Demonstrated Staff Expertise

For All Program Applicants

As noted in section D.2(h) of this NOFO, all applicants must submit a Staffing Plan and resumes as part of their applications. Applicants must submit an accompanying narrative that describes how the staff listed and their relevant areas of expertise will contribute to the goals of TCP and to meeting individual community needs. DOT will evaluate Staffing Plans based on their ability to demonstrate how individual team members represent the different areas of expertise needed to develop and implement a well-structured, feasible, and scalable technical assistance, planning, and capacity building plan.

c. Rating Factor 3: Proven Success

i. Experience Supportive of Technical Assistance Approach (Priority Sub-Factor)

For All Applicants

Applicants must demonstrate prior experience and successes related to the tasks and activities described in the technical assistance approach, clearly identifying which organization(s) have undertaken the activities described. DOT will evaluate applicants based on their descriptions of past experience and success undertaking activities proposed in the technical assistance approach.

Narratives should include information on the following:

• Examples of conducting the activities described in the technical assistance approach for each of the three transportation phases, including outcomes and impacts

• Experience executing projects that address local community mobility, access, climate and community development goals, in accordance with regional or statewide plans

• Experience supporting disadvantaged, rural, and Tribal communities on equity-related issues such as civil rights compliance, equitable development, inclusive community engagement

• Experience supporting innovative, inclusive, and meaningful public engagement activities, including experience engaging with communities with Limited English Proficiency

• Experience and evidence of the team's knowledge of Federal funding and technical assistance programs and the transportation planning processes relevant to the Community of Practice being supported that will support its role as a community navigator that connects communities to existing technical assistance resources available through DOT and other Federal agencies

• Experience and evidence of the team's knowledge and experience with applicable Federal statutes such as NEPA, title VI, ADA, and others

• Experience supporting workforce development, hiring and labor practices benefitting local economically disadvantaged communities, including specific examples

ii. Experience Supportive of Capacity Building Approach

For All Applicants

Applicants must demonstrate prior experience and successes related to the tasks and activities described in the capacity building approach, clearly identifying which organization(s) have undertaken the activities described. DOT will evaluate applicants based on their descriptions of past experience and success undertaking activities proposed in the capacity building approach.

Narratives should include information on the following:

• Examples of conducting the activities described in the capacity building approach, including outcomes and impacts

• Demonstration of experience applying strategies to nurture small and disadvantaged business participation and development, including capacity building initiatives and facilitating supportive services within disadvantaged business enterprise community marketplaces

• Experience with community wealth building and economic development practices, including community ownership models, apprenticeship, and business entrepreneurial programs

iii. Experience Supportive of Community of Practice Management Approach

For TCP-N Applicants

Applicants must demonstrate prior experience and successes related to the tasks and activities described in the Community of Practice Management approach, clearly identifying which organization(s) have undertaken the activities described. DOT will evaluate applicants based on their descriptions of past experience and success undertaking activities proposed in the community of practice management approach.

Narratives should include information on the following:

• Examples of conducting the activities described in the Community of Practice approach, including outcomes and impacts

• Specific examples of experiences relevant to the chosen Community of Practice cohort (Main Streets, Complete Neighborhoods, or Networked Communities)

• Demonstration of having conducted convenings to facilitate peer learning among communities

For TCP-R Applicants

Applicants must demonstrate prior experience and successes related to the tasks and activities described in the peer learning approach, clearly identifying which organization(s) have undertaken the activities described. DOT will evaluate applicants based on their descriptions of past experience and success undertaking activities proposed in the peer learning approach.

Narratives should include information on the following:

• Examples of conducting the activities described in the peer learning approach, including outcomes and impacts

• Demonstration of having conducted convenings to facilitate peer learning among communities; and/or support regional collaboratives

d. Rating Factor 4: Program Management and Evaluation

i. Schedule of Milestones and Deliverables

For All Program Applicants

Applications must include a proposed set of tasks and schedule detailing the expected start and end date of tasks and major deliverables described in the proposed approach. Applicants must clearly delineate and describe tasks and deliverables expected in the first two years of targeted community support, including peer learning support, and the third year of peer learning, evaluation, reporting, and transition activities. Applications should incorporate preparation of the final report and presentation into the project timeline and period of performance. The proposed task organization and schedule will serve as a starting point for cooperative agreement negotiations with the selected teams.

DOT will evaluate applicants based on the feasibility of the schedule; level of detail; alignment with proposed technical assistance, planning, and capacity building support; and alignment with accomplishing TCP goals within the period of performance.

ii. Program Evaluation and Assessment

For All Program Applicants

Applicants must include specific performance metrics under each of the specific work tasks describing how they will track, analyze, and report on the results and outcomes of the technical assistance, planning, and capacity building they are providing to individual communities and to the Communities of Practice/network of peer communities they are supporting. Performance metrics may be qualitative and/or quantitative and should be described in terms of well-defined goals that align with the goals of TCP.

DOT will evaluate the strength, clarity, and meaningfulness of proposed metrics and methodologies.

A list of potential metrics is bulleted below each TCP goal below:

1. Facilitate the Planning and Development of Transportation and Community Revitalization Activities Supported by DOT

• New projects that increase mobility, reduce pollution from transportation sources, expand affordable transportation options, facilitate efficient land use, preserve or expand jobs, and improve housing conditions

• Enhanced access to health care, education, and food security, or improved health outcomes

2. Build Capacity and Provide Support to Disadvantaged and/or Transportation Burdened Communities

• Short- and long-term capacity increases (e.g., increased staff, strategic hires)

• Sustained participation of key stakeholders that have historically been excluded from planning and decision making processes

• Leveraging relationships with other entities to advance community priorities

3. Increase the Level of Federal Investments in Transportation Infrastructure

• Number of successful grant or funding applications for projects supported through this program

• Implementation of new transportation infrastructure projects

4. Center and Advance Community-Driven Priorities

• Development of community-defined impact metrics to evaluate local equity outcomes

• Demonstrate positive benefits for disadvantaged communities

• Establishment of resident steering or advisory committees

e. Priority Considerations

DOT will prioritize Capacity Builders based on the below priority considerations. Priority considerations will be evaluated and documented in the Merit Review phase but will not factor into Merit Review scores. The documentation will be shared with the SRT for final recommendations.

i. Experience With Priority Geographies

For All Program Applicants

To receive priority consideration under this factor, applicants must clearly demonstrate their experience with supporting communities facing transportation burden and disparity, including but not limited to:

• Communities identified as disadvantaged in the transportation category in the CEJST tool

• Communities identified as transportation insecure in the ETC tool

Applicants should provide this information in their Experience Supportive of Technical Assistance Approach and Experience Supportive of Capacity Building Approach narratives.

ii. Diversity of Capacity Builder Teams

For TCP-N Program Applicants

Applicant Capacity Builder Teams include one or more partner organization that can be classified as:

• a disadvantaged business (e.g., 8(a) business) as defined by the U.S. Small Business Administration (SBA);

• a small business as defined by the SBA;

• a Historically Black College or University;

• other Minority Serving Institution;

• a HUBZone as defined by SBA [https://www.sba.gov/federal-contracting/contracting-assistance-programs/hubzone-program]; or

• a woman-owned or service-disabled veteran-owned small business as defined by SBA.

Applicants should identify this information in their Executive Summary and in each Organization Description attachment.

The diversity of the Capacity Builder teams is not a priority consideration for the TCP-R program.

iii. Leveraging of Additional Funding Sources

For All Program Applicants

Applicants that demonstrate an ability to leverage other funding and resources to provide support to additional communities, supported by Letters of Commitment, will be prioritized. This may include leveraging other funding, including from philanthropy, other Federal funding sources (e.g., formula funds, State or local resources and in-kind contributions of staff, volunteer time, facilities or other resources) to amplify program impact and support Thriving Communities Program goals and objectives in the long-term. Applicants should identify this information in their Budget Proposals.

f. Additional Considerations

i. Soundness of Proposed Budget

Proposed budgets will not receive merit ratings, but will be evaluated for soundness and strength, with reviewers providing comments on the following factors for consideration by the Senior Review Team:

• Does the proposed budget seem reasonable, feasible, and well-planned relevant to the activities proposed?

• Does the proposed budget allocate at least 20% of funding for sub-granting to community organizations? Are these allocations clearly described and reasonable?

• Does the budget clearly delineate between targeted support provided during the first two years of the period of performance and activities undertaken in the third year?

• DOT will prioritize applicants offering the highest percentages of targeted support. How much of the budget is devoted to targeted support?

• Does the proposed budget seem to provide high service value relevant to the funding requested?

• Do reviewers have any concerns or foresee any risks with the proposed budget? Examples of concerns/risks include, but are not limited to: a budget line-item for profit; excessive employee salaries; a total budget request in excess of what this NOFO offers; excessive sub-contracting to consultants that are not on the applicant team; and excessive allocation to third-year budgets.

• For TCP-R applicants only: DOT will view favorably applicants that propose robust meaningful public engagement activities. Does the applicant allocate a reasonable amount of budget for public engagement activities in comparison to described approach?

DOT acknowledges that TCP-N applicants do not have details on specific communities or the exact number of communities they would support if selected at the time of application. If selected, applicants' proposed budgets will be negotiated and finalized with DOT as part of the cooperative agreement process.

2. Review and Selection Process

a. Review for Eligibility and Completeness

For each application, DOT staff will assess whether the applicant is eligible and submitted all the information requested for a complete application. The following elements are required for a complete application:

• Required forms listed in section D.2(a)

• Organizational documentation (see section D.2(b))

• Organizational descriptions (see section D.2(c))

• Executive Summary (see section D.2(e))

• Narrative Responses (see section D.2(f))

• Letters of Commitment (TCP-R applicants only) (see section D.2(g))

• Staffing Plan (see section D.2(h))

• Budget Proposal (see section D.2(i)))

Applications that do not have all the necessary components for a complete application will be referred to an Evaluation Management Oversight Team, which will contact the applicant if it is determined they are an eligible applicant and request the missing information with a response time of 5 business days. Applicants that do not supply required information in this timeframe will be disqualified. For the Executive Summary and Narrative Responses, DOT will contact applicants only if these sections have been omitted entirely; applications that lack substance for either of these items will not be disqualified but are likely to receive low Merit Ratings.

Applicants will be disqualified if:

• Application does not include any one of the required components listed above and does not respond within 5 business days with complete application component(s).

• Lead applicant is not an eligible organization (as described in section C.1).

• Activities proposed do not align with the purpose and goals of the TCP.

• Application is submitted after the deadline (unless application is late due to legitimate technical issue(s) documented in advance of the application deadline and DOT is notified of the technical issue prior to the deadline in section D.4).

• Application is submitted via any method other than grants.gov (unless there is a confirmed systems issue and DOT exercises its right to accept the application in an alternate format).

Applicants who are determined to be ineligible will be notified in writing, and all determinations will be documented.

b. Evaluation Criteria Review

First-level Review Teams, comprised of staff from DOT, inter-agency Federal staff, and contractor staff, will evaluate all eligible and complete applications received by the deadline for an Evaluation Review against the evaluation criteria in section E.1 of this NOFO.

Ratings will be determined by each reviewer on an individual basis, and a compilation of ratings will be produced. The First-level Review Team will conduct a panel discussion, revise scores as appropriate, and prepare an overall project rating based on majority opinion of the review team.

The First-level Review Team will consider the quality and completeness of each rating sub-factor, which will result in a rating of `High,' `Medium,' or `Low,' for each sub-factor.

Each Rating Factor will receive an overall rating of `High,' `Medium,' or `Low,' based on ratings of the Sub-Factors A, B, and/or C.

For Rating Factors 1 and 3:

• Rating Factor will receive a `High' rating when:

○ Priority Sub-Factor A is rated `High;' AND,

○ Of the remaining two sub-factors (B and C), at least one is rated `High,' and neither is rated `Low'

• Rating Factor will receive a `Medium' rating when:

○ The Rating Factor does not meet the criteria for a `High' rating; AND,

○ Priority Sub-Factor A is rated at least `Medium;' AND,

○ Of the remaining two sub-factors (B and C), at least one is rated `Medium' or higher

• Rating Factor will receive a `Low' rating when:

○ The Rating Factor does not meet the criteria for a `High' or `Medium' rating; OR,

○ Priority Sub-Factor A is rated `Low'

For Rating Factors 2 and 4:

• Rating Factor will receive a `High' rating when both sub-factors (A and B) are rated `High'

• Rating Factor will receive a `Medium' rating when:

○ either both sub-factors are rated `Medium;' OR

○ one sub-factor is rated `Medium' and another is rated `High'

• Rating Factor will receive a `Low' rating when at least one sub-factor is rated `Low'

Rating scale | High | Medium | Low
Description | The application is substantively and comprehensively responsive to the criterion. It makes a strong case about advancing the program goals as described in the criterion descriptions. | The application is moderately responsive to the criterion. It makes a moderate case about advancing the program goals as described in the criterion descriptions | The application is minimally responsive to the criterion. It makes a weak case about advancing the program goals as described in the criterion descriptions. Proposal may be counter to the criterion or does not contain sufficient information. It does not advance or may negatively impact criterion goals

Based on the criteria ratings, an overall application merit rating of `Highly Recommended,' `Recommended,' or `Not Recommended' will be assigned using the following methodology. The ratings on the individual merit criteria translate to the following overall application rating for merit criteria:

Overall merit rating | Individual rating factors
Highly Recommended | • At least three Rating Factors are `High'. • No Rating Factor is rated `Low'.
Recommended | • Application received fewer than three `High' ratings, and; • No more than one Rating Factor is rated `Low',
Not Recommended | • Application received at least two `Low' ratings.

After completing the merit review, among applications of similar merit, DOT will prioritize applicants that:

• demonstrate an ability to leverage other funding sources

• demonstrate experience working with priority geographies

• devote the highest percentage of their proposed budgets to targeted community support

• have diverse Capacity Builder teams (for TCP-N applicants only)

• describe robust meaningful public involvement approaches (for TCP-R applicants only)

c. Leadership Selection Process

Applications that receive an overall application rating of Highly Recommended will be advanced to a Senior Review Team (SRT), which will include senior DOT and HUD leadership, to recommend applicants to the Under Secretary of Transportation for Policy (Under Secretary) for final selection. Final selection will be made with consideration to:

• Geographic, team member, and organizational diversity

• Applicant's demonstrated ability to leverage other funding sources to support additional communities and advance TCP goals in the long term

• Experience working with priority geographies

• Soundness of overall proposed budgets

• Applicants that devote the highest percentage of their proposed budgets to targeted community support

• For TCP-N applicants, ability to meet anticipated technical assistance needs of communities selected by DOT

• For the TCP-R, applicants with robust meaningful public engagement approaches

The SRT at its sole discretion may elect to review and select for cooperative agreements proposals rated as Recommended if the proposal fulfills technical assistance needs that would not otherwise be met by applications rated as Highly Recommended.

d. Under Secretary of Transportation for Policy Selection Phase

The SRT will present a list of applications for recommended consideration to the Under Secretary for final selection. The SRT may advise the Under Secretary on any application on the list, including options for reduced awards. The Under Secretary will make final selections based on applications that best address program requirements and are most deserving of funding.

3. Risk Assessment

Prior to award, each selected applicant will be subject to a risk assessment as required by 2 CFR 200.206. DOT must review and consider any information about the applicant that is in the Federal Awardee Performance and Integrity Information System (FAPIIS), the designated integrity and performance system accessible through SAM. An applicant may review information in FAPIIS and comment on any information about itself that a Federal awarding agency previously entered. DOT will consider comments by the applicant, in addition to the other information in FAPIIS, in making a judgment about the applicant's integrity, business ethics, and record of performance under Federal awards when completing the review of risk posed by applicants.

F. Federal Award Administration

1. Federal Award Notice

This NOFO will remain open until November 28, 2023.Following the evaluation process, DOT will notify successful applicants of their selection for funding. DOT will also notify other applicants, whose applications were received by the deadline, but have not been chosen for award. The DOT will offer a written or telephonic debrief to provide an explanation of, and guidance regarding, the reasons why the application was not approved.

Final Award. After DOT has made selections, DOT will finalize specific terms of the cooperative agreement and budget in consultation with the selected lead applicant. If DOT and the selected applicant do not finalize the terms and conditions of the cooperative agreement in a timely manner, or the selected applicant fails to provide requested information, an award will not be made to that applicant. In this case, DOT may select another eligible applicant.

DOT will reimburse labor and direct costs incurred by the Capacity Builder team, including subcontractors. Capacity Builders should maintain a system for recording all project costs. Invoices may be transmitted to DOT monthly. Aggregate payment will not exceed the cap shown in the cooperative agreement.

Adjustments to Funding. To ensure the fair distribution of funds and enable the purposes or requirements of a specific program to be met, DOT reserves the right to fund less than the amount requested in an application.

DOT Involvement. As the Federal awarding agency, DOT will maintain substantial involvement and oversight throughout the three-year period of performance of the executed cooperative agreements. This includes, but may not be limited to:

• Assigning communities selected to receive support through the TCP with specific Capacity Builder teams and finalizing work plans for cohort specific Communities of Practice

• Review of deliverables including individualized community deep dive work plans and technical assistance assessment

• Collecting and reviewing quarterly performance reports and final reports

• Convening regular meetings or Capacity Builder calls to review project activities, schedule, and progress toward the scope of work

• Identifying relevant Federal technical assistance programs to be aligned with TCP efforts in specific communities and assigning Federal agency staff to serve as liaisons with capacity builders, technical assistance recipients and their community partners

• Reviewing and approving changes in key personnel or scope changes

• Oversight of ongoing compliance with applicable Federal regulations

• Budget oversight, including collecting and reviewing and reimbursing monthly invoices for incurred costs and receiving notification when budgets are 50% and 90% expended

• Conducting quarterly meetings with Capacity Builders and involvement with an annual TCP convening with Capacity Builders and community partners

2. Administrative and National Policy Requirements

Administrative Budget

DOT requires that a selected applicant participates in negotiations to determine an administrative budget. The administrative budget must clearly identify the labor, associated indirect costs, travel, and material and supply costs associated with your management of the award. The administrative budget must track the different sources of funding and associate administrative costs to each source. Should DOT not be able to successfully conclude negotiations with a selected applicant within a period determined by DOT, an award will not be made.

Performance under the grant program will be governed by and in compliance with the following requirements as applicable to the type of organization of the recipient and any applicable sub-recipients:

All awards will be administered pursuant to the Uniform Administrative Requirements, Cost Principles and Audit Requirements for Federal Awards found in 2 CFR part 200, as adopted by DOT at 2 CFR part 1201.

Other terms and conditions as well as performance requirements will be addressed in further communications with the recipient. The full terms and conditions may vary and are subject to discussions and negotiations.

In connection with any program or activity conducted with or benefiting from funds awarded under this notice, recipients of funds must comply with all applicable requirements of Federal law, including, without limitation, the Constitution of the United States statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients must ensure that no concession agreements are denied, or other contracting decisions made on the basis of speech or other activities protected by the First Amendment. If the Bureau determines that a recipient has failed to comply with applicable Federal requirements, the Bureau may terminate the award of funds and disallow previously incurred costs, requiring the recipient to reimburse any expended award funds.

Additionally, Executive Order 13858 directs the Executive Branch Departments and agencies to maximize the use of goods, products, and materials produced in the United States through the terms and conditions of Federal financial assistance awards. If selected for an award, grant recipients must be prepared to demonstrate how they will maximize the use of domestic goods, products, and materials, as applicable.

Administration Priorities

Civil Rights and Title VI: As a condition of a grant award, grant recipients should demonstrate that the recipient has a plan for compliance with civil rights obligations and nondiscrimination laws, including title VI of the Civil Rights Act of 1964 and implementing regulations (49 CFR 21), the Americans with Disabilities Act of 1990 (ADA), and section 504 of the Rehabilitation Act, all other civil rights requirements, and accompanying regulations. This should include a signed agreement of standard Title VI/Non-Discrimination Assurances, identified as an attachment in an executed cooperative agreement. DOT's and the applicable Operating Administrations' Office of Civil Rights may work with awarded grant recipients to ensure full compliance with Federal civil rights requirements.

Performance and Program Evaluation: As a condition of grant award, grant recipients may be required to participate in an evaluation undertaken by DOT or another agency or partner. The evaluation may take different forms such as an implementation assessment across grant recipients, an impact and/or outcomes analysis of all or selected sites within or across grant recipients, or a benefit/cost analysis or assessment of return on investment. DOT may require applicants to collect data elements to aid the evaluation and/or use information available through other reporting. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

For grant recipients receiving an award, evaluation costs are allowable costs (either as direct or indirect), unless prohibited by statute or regulation, and such costs may include the personnel and equipment needed for data infrastructure and expertise in data analysis, performance, and evaluation. (2 CFR part 200).

Performance and Program Evaluation

Each cooperative agreement lead organization must submit quarterly progress reports to monitor progress and ensure accountability and financial transparency in the grant program. Each Capacity Builder must collect and report to the Bureau performance information on the technical assistance and advisory services being provided. The specific performance information and reporting period will be determined on an individual basis and communicated at the kickoff meeting of the cooperative agreement. It is anticipated that the Bureau and the Capacity Builder will hold regular, informal meetings or calls to review project activities, schedule, and progress toward the scope of work.

If funding is appropriated for an FY 2024 TCP, and there is no change in the TCP's authorization, DOT may elect not to issue a new NOFO for the FY 2024 TCP-N program; rather, it may select National Capacity Builders from the FY 2023 awardees, provided that DOT determines that awardees have demonstrated an appropriate level of performance and that awardees have sufficient capacity to and agree to provide support to a new cohort of communities. For the purposes of this program, an appropriate level of performance is determined based on the community recipients' overall satisfaction with technical assistance and capacity building support and with the responsiveness by the Capacity Builder to the needs of the community. Community recipients of technical assistance may be contacted to assess their level of satisfaction with Capacity Builder performance.

Additionally, it will be determined based on the Capacity Builder's successful advancement of goals and objectives related to:

1. Project Management

2. Technical Assistance, Planning, and Capacity Building Services to assigned TCP Communities

3. Meaningful Public Engagement to assigned TCP Communities

4. Establishing and Managing a National or Regional Community of Practice

5. Program Evaluation and Performance Metrics Assessment Plan

6. Project Budget

Remedies for Noncompliance

Pursuant to 2 CFR 200.340 [https://www.ecfr.gov/current/title-2/subtitle-A/chapter-II/part-200/subpart-D/subject-group-ECFR86b76dde0e1e9dc/section-200.340], a Federal award may be terminated in whole or in part if the grantee fails to comply with the terms and conditions of the award or if DOT determines the award no longer effectuates the program goals or agency priorities.

3. Reporting

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance review required for Federal procurement contracts, will be publicly available.

G. Federal Awarding Agency Contacts

If you have questions or need additional information about this NOFO, you may contact ThrivingCommunities@dot.gov. Prospective applicants may visit the following website for more information: https://www.transportation.gov/grants/thriving-communities.

H. Other Supporting Information

1. Definitions

Areas of Persistent Poverty: An area of persistent poverty is a county with 20 percent or more of the population living in poverty over the 30 years preceding the date of enactment of the Infrastructure Investment and Jobs Act, November 15, 2021, as measured by the 1990 and 2000 decennial census and the most recent Small Area Income and Poverty Estimates. Alternatively, data to support eligibility may also be from any census tract with a poverty rate of at least 20 percent as measured by the 2013-2017, 5-year data series available from the American Community Survey of the Census Bureau.

Authorized Organization Representative (AOR): The person authorized to submit applications on behalf of the organization via Grants.gov. The AOR is authorized by the E-Biz point of contact in the System for Award Management. The AOR is listed on the SF- 424.

Capacity Building: Activities designed to improve the ability of an organization to design and implement the necessary technical, financial, business, data analysis, and management skills of grantees to access Federal funding, meet Federal requirements, undertake statewide and metropolitan long-range planning and programming activities, and implement other activities that broadly support project development and delivery. This includes developing long-term community capacity to sustain partnerships and engage non-governmental partners, leadership and workforce development, and program evaluation.

Community-Based Organizations: The term “community-based organization” means a public or private nonprofit organization of demonstrated effectiveness that—(A) is representative of a community or significant segments of a community; and (B) provides educational or related services to individuals in the community.

Disadvantaged Business: According to the Small Business Administration, a Disadvantaged business must be 51% owned or controlled by one or more disadvantaged persons, and the firm must also be small according to SBA's size standards. A full definition can be found on SBA's website [https://www.sba.gov/federal-contracting/contracting-assistance-programs/small-disadvantaged-business].

Disadvantaged Community: (1) Any Tribal land or any Territory or possession of the United States and (2) those census tracts (a) experiencing disproportionate effects (as defined by Executive Order 12898); (b) that contain areas of persistent poverty as defined in 49 U.S.C. 6702(a)(1); (c) that are historically disadvantaged as defined by CEQ's Climate & Economic Justice Screening Tool [https://screeningtool.geoplatform.gov/en/#3/33.47/-97.5] and DOT's USDOT Equitable Transportation Community (ETC) Explorer [https://experience.arcgis.com/experience/0920984aa80a4362b8778d779b090723/page/ETC-Explorer---Homepage/] mapping tool for Historically Disadvantaged Communities; or (d) other federally designated community development zones.

Equitable Development: Equitable development is a development approach for meeting the needs of all communities, including underserved communities through policies and programs that reduce disparities while fostering livable places that are healthy and vibrant for all.

Grants.gov: The website serving as the Federal Government's central portal for searching and applying for Federal financial assistance throughout the Federal Government. Registration on Grants.gov is required for submission of applications to prospective agencies unless otherwise specified in this NOFO.

Historically Disadvantaged Community: Any Tribal land or any Territory or possession of the United States, or certain census tracts census experiencing disadvantage when its overall disadvantaged index score places it in the 65% (or higher) of all US census tracts in the USDOT Equitable Transportation Community (ETC) Explorer [https://experience.arcgis.com/experience/0920984aa80a4362b8778d779b090723/page/ETC-Explorer---Homepage/].

Indian Tribe: For the purposes of this NOFO, Indian Tribes include federally recognized Tribal Governments (as defined by the Bureau of Indian Affairs) [https://www.federalregister.gov/documents/2023/01/12/2023-00504/indian-entities-recognized-by-and-eligible-to-receive-services-from-the-united-states-bureau-of].

Location-Efficient Housing: Housing that benefits from being located in communities near work, schools, services, and amenities and has accessibility to public transportation networks.

Meaningful Public Involvement: A process that proactively seeks full representation from the community, considers public comments and feedback, and incorporates that feedback into a project, program, or plan when possible. The impact of community contributions encourages early and continuous public involvement and brings diverse viewpoints and values into the decision-making process. This process enables the community and agencies to make better-informed decisions through collaborative efforts.

Place-Making: A multi-faceted and collaborative approach to the planning, design, and management of the public realm to re-activate or co-create active, accessible and inviting public spaces that promote the well-being of people.

Planning: Efforts that support inclusive public participation and community engagement in developing and implementing a range of activities to identify, assess, and evaluate community needs, including but not limited to environmental reviews, data and mapping visualization, market and mobility studies, health and safety impacts, and climate vulnerability assessments. Planning assistance may involve developing or designing for a program or project that aligns with the goals of the DOT Strategic Plan [https://www.transportation.gov/dot-strategicplan].

Project Planning and Scoping: Technical assistance in this phase will support communities in efforts to identify projects that address a problem in the community and complete planning activities to move these projects toward development and implementation. Examples of areas of technical assistance in this phase include, but are not limited to environmental planning, transportation planning (e.g., corridor studies, pre-engineering studies), visioning and goal setting, feasibility studies, and other planning and scoping activities.

Project Development and Design: Technical assistance in this phase will support communities that have completed planning and scoping activities for one or more projects and who need assistance with completing relevant analyses and identifying and securing funding for project delivery. Specific types of technical assistance that could be provided for communities in this phase include, but are not limited to environmental analysis (e.g., NEPA); equity analysis; mapping and data analysis; title VI, ADA, and other regulatory compliance; benefit-cost analysis; grant/funding identification and planning; grant writing; and other pre-construction activities.

Project Delivery: Technical assistance in this phase will support communities that have received funding for one or more projects and who need assistance administering funding to successfully deliver projects. Examples of technical assistance activities that could support communities in this phase include but are not limited to project and grant management; value engineering; right-of-way acquisition; coordination with housing and community development, including anti-displacement strategies; data and technology deployment; and other project delivery activities.

Regional Planning Organization: For the purposes of this NOFO, regional planning organizations serve metropolitan areas over 50,000 population, and can include public agencies that fall within one of the eligible entities to receive support under this TCP NOFO that promote and implement policy-driven, regional planning solutions. These may include MPOs, regional transportation commissions, councils of government, regional transportation agencies, and regional planning councils. Non-profit regional planning organizations are eligible only to provide support through the TCP-R.

Rural Area: Under this NOFO, communities are in rural areas if:

• The community is not located in a 2020 Census Bureau designated urban area, or

• The community is located in a 2020 Census Bureau designated urban area with a population of 50,000 or less.

A community is not in a rural area if located in a 2020 Census Bureau designated urban area that has a population of more than 50,000 people. Applicants may use TigerWeb [https://tigerweb.geo.census.gov/tigerwebmain/TIGERweb_main.html] to determine if their community located in a 2020 Urban Area. A list of urban areas with corresponding populations for the 2020 Census is available in the Federal Register [https://www.federalregister.gov/documents/2022/12/29/2022-28286/2020-census-qualifying-urban-areas-and-final-criteria-clarifications].

Statewide Transportation Improvement Program (STIP): A statewide prioritized listing/program of transportation projects covering a period of 4 years that is consistent with the long-range statewide transportation plan, metropolitan transportation plan, and TIPs, and required for projects to be eligible for funding under title 23 U.S.C. and title 49 U.S.C. Chapter 53.

Technical Assistance: Programs, processes, and resources that provide targeted support, knowledge or expertise to a community, region, organization, or other beneficiary to help them access and utilize Federal funding to develop, analyze, design, and deliver transportation plans and projects.

Transportation Improvement Program (TIP): A prioritized listing/program of transportation projects covering a period of 4 years that is developed and formally adopted by an MPO as part of the metropolitan transportation planning process, consistent with the metropolitan transportation plan, and required for projects to be eligible for funding under title 23 U.S.C. and title 49 U.S.C. chapter 53.

Issued in Washington, DC, on September 12, 2023.
Christopher Coes,
Assistant Secretary for Transportation Policy, Department of Transportation.

Appendix A. Full Application Checklist

Before you submit your application to DOT, please ensure that the following elements are included in your submission.

| Requirement | Location in NOFO
☐ | SF-424—Application for Federal Assistance (submitted as an attachment) | D.2(a).
☐ | SF-424A—Budget Information for Non-Construction Programs (submitted as an attachment) | D.2(a).
☐ | SF-LLL—Disclosure of Lobbying Activities (submitted as an attachment) | D.2(a).
☐ | Organizational Documentation (submitted as an attachment, no page limit) | D.2(b).
☐ | Organization Descriptions (one page each for the lead and co-applicants) | D.2(c).
☐ | Indirect Cost Documentation (if applicable, submitted as an attachment, no page limit) | D.2(d).
☐ | Executive Summary (500 words or less) | D.2(e).
☐ | Letters of Commitment (TCP-R applicants only) | D.2(g).
☐ | Staffing Plan (including key staff resumes) | D.2(h).
☐ | Budget Proposal (template required, maximum 3 pages * (excluding tables)) (include Letters of Commitment as attachments, if applicable) | D.2(i).
☐ | Technical Assistance Approach Narrative (maximum 3 pages) | E.1(a)(i).
☐ | Capacity Building Approach Narrative (maximum 1 page) | E.1(a)(ii).
☐ | Community of Practice Management Approach Narrative (maximum 1 page) | E.1(a)(iii).
☐ | Role of Partner Organizations Narrative (maximum 1 page) | E.1(b)(i).
☐ | Demonstrated Staff Expertise Narrative (maximum 1 page) | E.1(b)(ii).
☐ | Experience Supportive of Technical Assistance Approach Narrative (maximum 3 pages) | E.1(c)(i).
☐ | Experience Supportive of Capacity Building Approach Narrative (maximum 1 page) | E.1(c)(ii).
☐ | Experience Supportive of Community of Practice Management Approach Narrative (maximum 1 page) | E.1(c)(iii).
☐ | Schedule of Milestones and Deliverables Narrative (maximum 1 page) | E.1(d)(i).
☐ | Program Evaluation and Assessment Narrative (maximum 1 page) | E.1(d)(ii).
* All page limits are single-sided 8.5 x 11-inch pages, with a minimum 12-point font and 1-inch margins.

[FR Doc. 2023-19984 Filed 9-14-23; 8:45 am]

BILLING CODE 4910-9P-P